DEPARTMENT OF HEALTH AND HUMAN SERVICES

Administration for Children and Families

[Program Announcement No. OCS 2002-05]

Fiscal Year 2002 Training, Technical Assistance and Capacity-Building Program; Availability of Funds and Request for Applications—Fall/Winter Competition

AGENCY: Office of Community Services (OCS), Administration for Children and Families (ACF), Department of Health and Human Services' (DHHS).

ACTION: Request for Applications under the Office of Community Services' Training, Technical Assistance and Capacity-Building Program—Fall/Winter Competition.

SUMMARY: The Office of Community Services announces that competing applications will be accepted for grants pursuant to the Secretary's authority under section 674(b) of the Community Services Block Grant (CSBG) Act, as amended, by the Community Opportunities, Accountability, and Training, and Educational Services (Coats) Human Services Reauthorization Act of 1998, (Pub. L. 105-285). This Fall/Winter competition for new Fiscal Year 2002 grants may be followed by an additional competition later in the Fiscal Year depending upon needs within the Community Services Network and the availability of funds. This program announcement does not describe priority areas or awards to be made later in Fiscal Year 2002 that continue multi-year obligations from previous competitions.

This program announcement consists of seven parts. Part A provides information on the legislative authority and defines terms used in the program announcement. Part B describes the purposes of the program, the priority areas that will be considered for funding, and which organizations are eligible to apply in each priority area. Part C provides details on application prerequisites, anticipated amounts of funds available in each priority area, estimated number of grants to be awarded, and other grant-related information. Part D provides information on application procedures including the availability of forms, where to submit an application, criteria for initial screening of applications, and project evaluation criteria. Part E provides guidance on the content of an application package. Part F provides instructions for completing an application. Part G details post-award requirements.

Closing Date: The closing date for submission of applications is March 19, 2002. Mailed applications shall be considered as meeting the announced deadline if they are received on or before deadline date or are postmarked on or before the deadline date. Applications received after the closing date will be classified as late and not considered for funding. Applications that are handcarried will be classified as late if they are received after 4:30 p.m., EST, on the deadline date. Applicants are cautioned to request a legibly dated U.S. Postal Service postmark or to obtain a legibly dated receipt from a commercial carrier or U.S. Postal Service. Private metered postmarks shall not be accepted as proof of timely mailing. Detailed application submission instructions, including addresses where applications must be sent are found in Part D of this program announcement.

FOR FURTHER INFORMATION CONTACT: Dr. Margaret J. Washnitzer, Director of State Assistance, Office of Community Services, Administration for Children and Families, 370 L'Enfant Promenade, SW., Washington, DC 20447 (202) 401-9343. This program announcement is accessible on the OCS web site for reading or downloading at: http://www/acf/dhhs/gov/programs/ocs.

Additional copies of this program announcement can be obtained by calling (202) 401-9343.

The Catalog of Federal Domestic Assistance number is 93.570. This Program announcement title is “Training, Technical Assistance, and Capacity—Building Program.”

Part A—Preamble

1. Legislative Authority

Sections 674(b)(2) and 678E(b) of the Community Services Block Grant (CSBG) Act of 1981, (Pub. L. 97-35) as amended by the Coats Human Services Reauthorization Act of 1998, (Pub. L. 105-285) authorizes the Secretary of Health and Human Services to utilize a percentage of appropriated funds for: training, technical assistance, planning, evaluation, performance measurement, monitoring, to assist States in carrying out corrective actions and to correct programmatic deficiencies of eligible entities, and for reporting and data collection activities related to programs or projects carried out under the CSBG Act. The Secretary may carry out these activities through grants, contracts, or cooperative agreements. To address program quality in financial management practices, management information and reporting systems, and measurement of program results and to ensure responsiveness to identified local needs, the Secretary is required to distribute funds directly to eligible entities, or statewide or to local organizations or associations with demonstrated expertise in providing training to individuals and organizations on methods of effectively addressing the needs of low-income families and communities. The Secretary may carry out the remaining activities through appropriate entities.

The process for determining the technical assistance, training and capacity-building activities to be carried out must (a) ensure that the needs of eligible entities and programs relating to improving program quality, including financial management practices, are addressed to the maximum extent feasible; and (b) incorporate mechanisms to ensure responsiveness to local needs, including an on-going procedure for obtaining input from State and national networks of eligible entities. Thus, the CSBG Monitoring and Assessment Task Force (MATF) continues to focus on implementation of the Results-Oriented Management and Accountability (ROMA) system to address the challenges and unmet needs of States and Community Action Agencies and to increase program quality and management within the Community Services Network. The Task Force has taken a comprehensive approach to monitoring, including establishing national goals and outcome measures, and established target dates for nation-wide implementation; reviewing information and data needs relevant to these outcome measures; and assessing technical assistance and training provided toward capacity building within the Community Services Network.

2. Definitions of Terms

For purposes of the FY 2002 CSBG Training, Technical Assistance and Capacity-Building Program, the following definitions apply:

At-Risk Agencies refers to CSBG eligible entities in crises. The problem(s) to be addressed must be of a complex or pervasive nature that cannot be adequately addressed through existing local or State resources.

Capacity-building refers to activities that assist Community Action Agencies (CAAs) and other eligible entities to improve or enhance their overall or specific capability to plan, deliver, manage and evaluate programs efficiently and effectively to produce intended results for low-income individuals. This may include upgrading internal financial management or computer systems, establishing new external linkages with other organizations, improving board functioning, adding or refining a program component or replicating techniques or programs piloted in another local community, or making other cost effective improvements.

Community in relationship to broad representation refers to any group of individuals who share common distinguishing characteristics including residency, for example, the “low-income” community, or the “religious” community or the “professional” community. The individual members of these “communities” may or may not reside in a specific neighborhood, county or school district but the local service provider may be implementing programs and strategies that will have a measurable affect on them. Community in this context is viewed within the framework of both community conditions and systems, i.e., (1) public policies, formal written and unstated norms adhered to by the general population; (2) service and support systems, economic opportunity in the labor market and capital stakeholders; (3) civic participation; and (4) an equity as it relates to the economic and social distribution of power.

Community Services Network (CSN) refers to the various organizations involved in planning and implementing programs funded through the Community Services Block Grant or providing training, technical assistance or support to them. The network includes local Community Action Agencies and other eligible entities; State CSBG offices and their national association; CAA State, regional and national associations; and related organizations which collaborate and participate with Community Action Agencies and other eligible entities in their efforts on behalf of low-income people.

Cooperative Agreement is an award instrument of financial assistance where “substantial involvement” is anticipated between the awarding agency and the recipient during the performance of the contemplated project or activity. “Substantial involvement” means that the recipient can expect Federal programmatic collaboration or participation in managing the award.

Eligible applicants for this training and technical assistance program announcement are eligible entities (see described below); States, non-profit organizations or state CAA associations who are involved in training, technical assistance planning, corrective action, evaluation and peformance measurement in order to assist States in carrying out the purposes of the CSBG program. Eligible faith-based nonprofit organizations may apply.

Eligible entity means any organization that was officially designated as a Community Action Agency (CAA) or a community action program under section 673(1) of the Community Services Block Grant Act, as amended by the Human Services Amendments of 1994 (Pub. L. 103-252), and meets all the requirements under sections 673(1)(A)(I), and 676A of the CSBG Act, as amended by the Coats Human Services Reauthorization Act of 1998. All eligible entities are current recipients of Community Services Block Grant funds, including migrant and seasonal farmworker organizations that received CSBG funding in the previous fiscal year. Faith-based organizations that are also eligible entities may apply. In cases where eligible entity status is unclear, a final determination will be made by OCS/ACF.

Hub is a Department of Health and Human Services designation for multiple regional locations.

Local service providers are local public or private non-profit agencies that receive Community Services Block Grant funds from States to provide services to, or undertake activities on behalf of, low-income people.

Nationwide refers to the scope of the technical assistance, training, data collection, or other capacity-building projects to be undertaken with grant funds. Nationwide projects must provide for the implementation of technical assistance, training or data collection for all or a significant number of States, and the local service providers who administer CSBG funds.

Outcome Measures are indicators that focus on the direct results one wants to help clients achieve.

Performance Measurement is a tool used to objectively assess how a program is accomplishing its mission through the delivery of products, services, and activities.

Program technology exchange refers to the process of sharing expert technical and programmatic information, models, strategies and approaches among the various partners in the Community Services Network. This may be done through written case studies, guides, seminars, technical assistance, and other mechanisms.

Regional Networks refers to CAA State Associations within a region.

Results-Oriented Management and Accountability (ROMA) System: ROMA is a system, which provides a framework for focusing on results for local agencies funded by the Community Services Block Grant Program. It involves setting goals and strategies for developing plans and techniques that focus on a result-oriented performance based model for management.

State means all of the 50 States and the District of Columbia. Except where specifically noted, for purposes of this program announcement, it also includes specified Territories.

State CSBG Lead Agency (SCLA) is the lead agency designated by the Governor of the State to develop the State CSBG application and to administer the CSBG Program.

Statewide refers to training and technical assistance activities and other capacity building activities undertaken with grant funds that will have significant impact, i.e. activities should impact at least 50 percent of the eligible entities in a State.

Technical assistance is an activity, generally utilizing the services of an expert (often a peer), aimed at enhancing capacity, improving programs and systems, or solving specific problems. Such services may be provided proactively to improve systems or as an intervention to solve specific problems.

Territories refer to the Commonwealth of Puerto Rico, and American Samoa for the purpose of this announcement.

Training is an educational activity or event which is designed to impart knowledge, understanding, or increase the development of skills. Such training activities may be in the form of assembled events such as workshops, seminars, conferences or programs of self-instructional activities.

Part B—Purposes/Program Priority Areas

This Training, Technical Assistance, and Capacity-Building program announcement is intended to provide funding to eligible applicants within the Community Services Network to advance achievement of the six national community action goals:

Goal 1: Low-income people become more self-sufficient.

Goal 2: The conditions in which low-income people live are improved.

Goal 3: Low-income people own a stake in their community.

Goal 4: Partnerships among supporters and providers of service to low-income people are achieved.

Goal 5: Agencies increase their capacity to achieve results.

Goal 6: Low-income people, especially vulnerable populations, achieve their potential by strengthening family and other supportive systems.

These goals were established by the Community Services Network and have been used over the past eight years to focus its work on achieving meaningful and measurable improvements in the lives of clients and communities. Establishing these goals in 1994 was an initial step in the Network's voluntary effort to develop and install a comprehensive performance-based management system, “Results Oriented Management and Accountability,” or ROMA. Sections 676(b)(12) and 678(E) of the CSBG Act, as amended in 1998, now mandate implementation of ROMA across the entire Community Services Network, with performance reporting from all partners in the Network beginning October 1, 2001.

This program announcement seeks to encourage the development or expansion of specific community action initiatives within the framework of the six national goals. Successful applicants will help move the Network toward improved programs, outcomes, and greater accountability through universal adoption of ROMA by Fiscal Year 2003.

The ROMA goal-related activities to be funded through this program announcement are intended to complement those now being supported by grants made in the last quarter of Fiscal Year 2001. Specifically, OCS funded a significant number of grants to States (CSBG Lead Agencies and State Community Action Associations) to carry out ROMA implementation plans developed jointly by these organizations at five regional meetings sponsored by OCS during July and August, 2001. States were encouraged at the regional meetings to focus their plans on accomplishing eight ROMA implementation “core activities” (four State and four local) described in OCS Information Memorandum Number 49 (February 21, 2001):

State Agencies

1. The agency has developed, in coordination with eligible entities and the State CAA association, a State-wide vision statement that speaks to the goals and purposes of community action within the State and that supports the six national ROMA goals. The agency is encouraged to participate in, and contribute to, broader State anti-poverty/community development initiatives with outcome measures and goals compatible with ROMA;

2. The agency has trained all its eligible entities (staff and boards) in outcome-based management, and that 80% of the entities use ROMA concepts to guide needs assessment, agency mission review, activity planning, resource allocations, service delivery, measuring and reporting results;

3. Eighty percent of the plans and program reports received from eligible entities in the State describe plans to achieve projected outcomes, and evaluate results based on measurable improvements of condition(s) among clients and/or communities served; and

4. .The agency submits complete, accurate, and timely annual reports to OCS on the “measured performance of the State and the eligible entities in the State” as required by section 678E of Public Law 105-285, the Community Services Block Grant Reauthorization Act of 1998.

Eligible Entities

1. The entity and its board complete regular assessments of the entity's overall mission, desired impact(s) and program structure, taking into account: (1) The needs of the community and its residents; (2) the relationship, or context, of the activities supported by the entity to other anti-poverty, community development services in the community; and (3) the extent to which the entity's activities contribute to the accomplishment of one or more of the six ROMA national goals;

2. Based upon the periodic assessments described above, the entity and its board has identified yearly (or multi-annually) specific improvements, or results, it plans to help achieve in the lives of individuals, families, and/or the community as a whole;

3 . The entity organizes and operates all of its programs, services, and activities toward accomplishing these improvements, or outcomes, including linking with other agencies in the community when services beyond the scope of the entity are required. All staff are helped by the entity to understand the direct or indirect relationship of their efforts to achieving specific client or community outcomes; and

4. The entity provides reports to the State that describe client and community outcomes and that capture the contribution of all entity programs, services, and activities to the achievement of those outcomes.

Model capacity building and technical assistance coordination financed through this program announcement are designed to produce both basic and advanced tools that can be used across the network to carry out these “core activities” that constitute ROMA implementation as required by law.

In addition to creating program information and tools for organizing community services to achieve client and community outcomes, OCS intends to underwrite intensive, one-on-one interaction among community action staff from one program to another. OCS hopes that those agencies/workers that have experimented with various approaches to program improvement will share their experiences with partner agencies through such strategies as extended on-site visits or staff exchanges.

OCS is soliciting applications for this Fiscal Year 2002 Fall/Winter competition for Training, Technical Assistance and Capacity-Building funding in the following priority and sub-priority areas:

Priority Area 1.0 Achieving Goal 1: Low-Income People Become More Self-Sufficient

Sub-Priority Areas

1.1 Strengthening the “Self-sufficiency Continuum” (SC)

1.2 Organizing/Coordinating Services Around Self-sufficiency: Welfare to Work (WW)

1.3 Organizing/Coordinating Services Around Self-sufficiency/IndependentLiving Among the Aging or Disabled (SA)

1.4 Strategic Measurement and Reporting of Self-sufficiency Outcomes (SM)

1.5 The Use of Individual Development Accounts to Advance Self-sufficiency (ID)

Priority Area 2.0 Achieving Goal 2: The Conditions in Which Low-Income Individuals' Lives Are Improved

Sub-Priority Areas

2.1 Organizing/Coordinating Community Development Programs (CD)

2.2 Strategic Measurement and Reporting of Community Outcomes Across Programs/Services (CO)

Priority Area 3.0 Achieving Goal 3: Low-Income People Own a Stake in Their Community

Sub-Priority Areas

3.1 Organizing/Coordinating Community Advocacy/Participation Programs (CM)

3.2 Community Advocacy/Participation Programs, Measurement and Reporting (CA)

Priority Area 4.0 Achieving Goal 4: Partnerships Among Supporters and Providers of Service to Low-Income People Are Achieved

Sub-Priority Areas

4.1 Coordination Strategies Between Community Action and Faith-Based Organizations to Advance ROMA Client Goals I and VI (FP)

4.2 Coordination Strategies Between Community Action and Faith-Based Organizations to Advance ROMA Community Goals II and III (FC)

Priority Area 5.0 Achieving Goal 5: Agencies Increase Their Capacity To Achieve Results

Sub-Priority Areas

5.1 ROMA Training and Technical Assistance Clearinghouse (RC)

5.2 Board Training Programs (BT)

5.3 State Agency/Association ROMA Plan Implementation (RI)

5.4 Local Capacity-Building (CB)

Priority Area 6.0 Achieving Goal 6: Low-Income People, Especially Vulnerable Populations, Achieve Their Potential by Strengthening Family and Other Supportive Systems

Sub-Priority Areas

6.1 Strengthening the Role of Fathers and Marriage in Child and Family Life (MS)

6.2 Meeting the Special Needs of Children With an Incarcerated Parent (IP)

6.3 Network Guide to Measuring Family Development Outcomes (FD)

Priority Area 1.0 Achieving Goal 1: Low-Income People Become More Self-Sufficient

OCS believes that community action has a unique opportunity to strengthen its anti-poverty, self-sufficiency successes over the next several years among the variety of populations it currently serves, including: (1) Those families who have moved from welfare to work but need additional assistance in order to continue their progress to greater self-sufficiency; (2) those families that continue to receive public assistance and need help to begin the process of moving toward self-sufficiency; and (3) the aging or disabled for whom self-sufficiency is often defined in terms of “independent living.”

The CSBG provides flexible funding to States and eligible entities that permits these agencies to organize the variety of services they administer, financed by a number of funding sources, around the self-sufficiency needs of the clients they serve. Indeed, the ROMA “core activities” for eligible entities described in Information Memorandum No. 49 speak to this concept of coordinated delivery of services from programs within an eligible entity and from “partner” agencies in the community. Such coordination is intended to achieve robust improvements in the lives of clients that no one service can achieve alone, such as helping them move permanently from welfare to work, or sustaining movement toward self-sufficiency once training and entry-level employment have been secured. Similarly, Information Memorandum No. 49 encourages State CSBG officials to link with other programs with purposes that are congruent with the six national community action goals in order to assure that the programs, in concert, achieve life-changing outcomes among often-shared clients.

Coordinating services across programs to help clients achieve broad, life-altering goals, especially the anti-poverty work of moving families from dependence to self-sufficiency, can make community action unique and potentially more successful than other service providers. But, such coordination is somewhat difficult to achieve and has not always been considered essential to the existence or success of community action. Many State agencies and eligible entities have evolved over the years into umbrella organizations that house separate, and administratively segregated service programs, that often serve the same clients in parallel universes, by fiat not design, and that have no pattern or broader purpose to their immediate interventions.

OCS intends to fund those community action leaders at the State or local levels that have been successful in organizing programs and services, both within and outside their agencies, toward achieving client self-sufficiency, to help others within the Network reconfigure their programs, services, and outcome expectations. It will “underwrite” the time and expense of these leaders so that they may share their experiences with colleagues in other States or communities.

OCS also intends to fund State or eligible entities that wish to develop new self-sufficiency models of coordinated service delivery for one or more of the community action client populations.

In addition, OCS seeks the development and dissemination of model ways to track the many intermediate interventions across services and programs that ultimately combine and contribute to families achieving the broader outcome of self-sufficiency. Such a tool(s) may help State and local community action officials: (1) Plan programs and deploy resources around client-specific strategies; (2) translate discrete services or interventions into building-block inputs; (3) access the effectiveness of such interventions in terms of their intermediate impact on clients; and (4) analyze and report the impact of the ultimate coalescence of intermediate, or contributory outcomes, on a family's ability to achieve and sustain self-sufficiency.

Sub-Priority 1.1 Strengthening the “Self-Sufficiency Continuum” (SC)

As a result of welfare reform, millions of families have moved from public assistance to employment over the past five years. Many of these families have taken the first steps toward self-sufficiency but they are not earning “living wages,” or adequate income, to be truly self-supporting. OCS intends to strengthen the “self-sufficiency continuum” that provides purposeful and targeted assistance to these families to help them continue their movement toward ultimate economic independence.

OCS is aware that most community action agencies already provide services to the “working poor.” In many cases, such services may address both temporary and longer-term family needs. The services may allow family members to remain employed rather than revert to public assistance as their primary means of support. OCS encourages purposeful and targeted assistance to working families that are transitioning to self-sufficiency.

OCS will fund up to six awards, two in each of the following categories, to advance community action creation of an effective “self-sufficiency continuum”:

(1) Training and Technical Assistance: OCS will underwrite the development of training and technical assistance information that identifies and describes programs within the Network that have: (a) Undertaken specific initiatives to address the needs of the working poor; (b) provided coordinated services from a variety of sources to such families to help them achieve concrete and measurable advances on the “continuum” toward self-sufficiency; and (c) have installed appropriate measurement strategies to capture, record, and report meaningful family movement on the “continuum.”

Eligible applicants: State CSBG Lead Agencies, State CAA Associations, local eligible entities, private non-profit organizations.

Anticipated Grant Awards: 2 (up to $20,000 each).

(2) Outcome Measurement Strategies: OCS will underwrite the development of approaches, such as scales or collected individual results/measures, to capture, record, and report the results of individual or coordinated services to help the working poor advance toward self-sufficiency. These tools are intended to help entities within the Network organize and document their efforts to help the working poor achieve greater self-sufficiency. The measurement tools developed through this grant should address, all or a significant number of the following aspects of family life that contribute to overall well-being: education, child care, child and adolescent development, housing, job training, employment, food and nutrition, physical health, mental health, substance abuse, family functioning, family/community integration, transportation, and financial management.

Eligible applicants: State CSBG Lead Agencies, State CAA Associations, local eligible entities, private non-profit organizations.

Anticipated Grant Awards: 2 (up to $20,000 each).

(3) Capacity-Building: OCS will provide capacity building assistance to two eligible entities to underwrite the costs of developing a “self-sufficiency continuum.” The successful applicants will agree to undertake and document the steps they take to: (a) Identify the needs of the working poor within their community; (b) identify a specific group or number of families/individuals to receive coordinated and targeted assistance; (c) design a set of strategies to meet the immediate and longer-term needs of participating families/individuals that involves partnerships among relevant public and private programs both within and outside the eligible entity; (d) provide assistance strategically; and (e) capture, record, and report the results of specific and aggregated interventions on the overall movement of participating working poor individuals and families toward self-sufficiency.

Eligible applicants: State CSBG Lead Agencies, State CAA Associations, local eligible entities, private non-profit organizations.

Anticipated Grant Awards: 2 (up to $20,000 each).

Sub-Priority 1.2 Organizing/Coordinating Services Around Self-Sufficiency: Welfare to Work (WW)

OCS recognizes that many community action agencies help families make the transition from welfare to work using coordinated services financed from a variety of sources. OCS intends to support two forms of training, technical assistance, and capacity-building activities designed to accelerate the ability of more agencies to undertake such activities:

(1) Guide to Organizing CAA Welfare-to-Work Self-sufficiency Programs—OCS will support the development of a technical assistance guide on how to organize services and programs around the goal of moving clients from welfare to work. The successful applicant for funds to develop this guide must demonstrate the ability to identify and describe existing strategies within the network, at both the State and local levels, that are being used to coordinate community action planning, allocation of resources, and client services to achieve client self-sufficiency outcomes, with particular emphasis on innovative approaches to: (1) Determining the comprehensive needs of clients to achieve self-sufficiency involving CAA boards and other community resources; (2) designing and implementing coordinated service delivery strategies, including case management, to respond to those needs; (3) providing for client-focused record-keeping and measurement of immediate and longer-terms impacts of interventions on client change, including common intake procedures, client-organized information systems, electronic methods to sort information for a variety of program measurement and reporting purposes.

Eligible applicants: State CSBG Lead Agencies, State CAA Associations, local eligible entities, private non-profit organizations.

Anticipated Grant Awards: 1 (up to $30,000).

(2) On-Site Technical Assistance—Through both self-sufficiency demonstration programs in the late 1980's and seven years of pioneering work in performance-based management, the Network has developed a number of successful leaders in helping families move from welfare to work. While these leaders are known and available to some in the Network, OCS believes that our best self-sufficiency organizers ought to be helping a broader audience of State and local agencies.

OCS intends to fund approximately 5 State and/or local community action programs that have achieved a level of proficiency in helping clients transition from welfare to work to provide: (1) Intensive, on-site training and technical assistance at regional, State or local community action meetings; and/or (2) staff exchanges or extended staff loans among State or local programs to assist in knowledge transfer about self-sufficiency strategies.

Among the specific kinds of expertise OCS hopes to have shared through this process are: (a) Case managed approaches to family services (parents and children); (b) resource support to coordinated service delivery, including organization of staff and services; (c) client results-based staff performance; (d) client and results focus tracking, measurement, and reporting systems; (e) partnerships with other services/programs within the community; and (f) board involvement in needs assessment, program planning, implementation, and evaluation.

Eligible applicants: State CSBG Lead Agencies, State CAA Associations, local eligible entities.

Anticipated Grant Awards: 5 (up to $35,000 each).

Sub-Priority 1.3 Organizing/Coordinating Services Around Self-Sufficiency/Independent Living Among the Aging or Disabled (SA)

A significant number of community action agencies provide services to the aging or disabled to help them live as independently as possible for as long as possible. Because independent living among the aging or the disabled often translates into a measure of self-sufficiency, OCS intends to develop training and technical assistance resources for the Network similar to those described above for Sub-priority 1.2 (Welfare to Work):

(1) Guide to Organizing CAA Independent Living Strategies for the Aging or Disabled—OCS will support the development of a technical assistance guide on how to organize services and programs around the goal helping aging or disabled clients remain self-sufficient through sustaining their ability to live as independently as possible within the community. The successful applicant for funds to develop this guide must demonstrate the ability to identify and describe existing strategies within the network, at both the State and local levels, that are being used to coordinate community action planning, allocation of resources, and client services to achieve client self-sufficiency outcomes for the aging or disabled, with particular emphasis on innovative approaches to: (1) Determining the comprehensive needs of clients to achieve and sustain the appropriate level of independent living involving CAA boards and other community resources; (2) designing and implementing coordinated service delivery strategies, including case management, to respond to those needs; (3) providing for client-focused record-keeping and measurement of immediate and longer-terms impacts of interventions on client change, including common intake procedures, client-organized information systems, electronic methods to sort information for a variety of program measurement and reporting purposes.

Eligible applicants: State CSBG Lead Agencies, State CAA Associations, local eligible entities, private non-profit organizations.

Anticipated Grant Awards: 1 (up to $30,000).

(2) On-Site Technical Assistance—OCS intends to fund approximately 5 State and/or local community action programs that have achieved a level of proficiency in helping aging or disabled clients achieve and sustain appropriate levels of independent living within their community to provide: (1) Intensive, on-site training and technical assistance at regional, State or local community action meetings; and/or (2) staff exchanges or extended staff loans among State or local programs to assist in knowledge transfer about self-sufficiency strategies.

Among the specific kinds of expertise OCS hopes to have shared through this process are: (a) Case managed approaches to service delivery; (b) resource support to coordinated service delivery, including organization of staff and services; (c) client results-based staff performance; (d) client and results focus tracking, measurement, and reporting systems; (e) partnerships with other services/programs within the community; and (f) board involvement in needs assessment, program planning, implementation, and evaluation.

Eligible applicants: State CSBG Lead Agencies, State CAA Associations, local eligible entities.

Anticipated Grant Awards: 5 (up to $35,000 each).

Sub-Priority 1.4 Strategic Measurement and Reporting of Self-Sufficiency Outcomes (SM)

OCS will underwrite the development of strategic technical assistance documents that lay out the connection between discrete client interventions on the achievement of intermediate and longer-term client self-sufficiency outcomes for the three self-sufficiency populations described above: (1) The working poor (the “Self-sufficiency Continuum); (2) families transitioning from welfare to work; and (3) the aging or disabled. These tools are intended to help entities within the Network organize and document their self-sufficiency efforts more effectively.

The measurement tools developed through this grant should address, at a minimum, the following aspects of family status/condition: Education, child care, child and adolescent development, housing, job training, employment, food and nutrition, physical health, mental health, substance abuse, family functioning, family/community integration, transportation, and financial management. The measurement strategies should lay out the interactions and interrelationships of single-focus interventions/activities on the achievement of interim results and the relationship of interim results to the broader outcome of family self-sufficiency.

Eligible applicants: State CSBG Lead Agencies, State CAA Associations, local eligible entities, private non-profit organizations.

Anticipated Grant Awards: 3 (up to $20,000 each, one for each population group).

Sub-Priority 1.5 The Use of Individual Development Accounts To Advance Self-Sufficiency (ID)

Individual Development Accounts (IDA's) have become a promising tool among anti-poverty programs in their efforts to promote self-sufficiency among low-income families. Some in the Community Services Network, at both the State and local levels, are experimenting with the use of IDA's to assure that adequate and sufficiently flexible funds are available to meet the multiple and changing needs of families transitioning from welfare to work.

OCS intends to underwrite the development of technical assistance information about community action use of IDA's for dissemination to the Network. The successful applicant must demonstrate an ability to gather information from the network through electronic or other means, organize and present the information in a manner that will be useful to Network colleagues at both the State and local levels.

The technical assistance document developed by the successful applicant should contain, at a minimum: (1) A brief history of IDA's within and outside the Community Services Network; (2) an overview of IDA activity within the Network, both at the State and local level in terms of needs being addressed, outcomes anticipated, and any measurements taken of results to date; (3) a description of challenges faced by those agencies experimenting with IDA's and how those challenges have been or are being addressed; and (4) A summary analysis of IDA's based on experimenter views/observations and those of the applicant.

Eligible applicants: State CSBG Lead Agencies, State CAA Associations, local eligible entities, private non-profit organizations.

Anticipated Grant Awards: 1 (up to $45,000).

Priority Area 2.0 Achieving Goal 2: The Conditions in Which Low-Income Individuals' Lives Are Improved

Almost all eligible entities report efforts to improve one or more aspects of communities in which low-income individuals and families live. Yet, finding ways to capture and report meaningful results of community action for this first of two national goals has proven difficult in the early years of ROMA implementation.

Analysis of FY 1998 ROMA reports submitted by States, the latest that has been summarized, indicates that the Network views a wide variety of programs and services as advancing Goal 2. These programs and services include: (1) Housing (purchase, repair, transitional, weatherization, energy assistance, emergency rent); (2) help to community residents (education and literacy training, emergency food/nutrition, employment, healthcare, transportation); and (3) economic development activities (encouraging small business, establishing employment opportunities).

OCS believes that the Network could benefit from assistance in sorting through not only how to capture what community action is doing to advance community development, but also on how the Network might best approach the broader issues of community redevelopment with more comprehensive strategies in the future.

OCS believes that advancement of ROMA implementation will be served by the development of technical assistance materials for use by the Network that provide new, and more detailed, information on how Network leaders in community development design and carry out programs, and on how they record and report results of their activities.

Sub-Priority Area 2.1 Organizing/Coordinating Community Development Programs (CD)

OCS will underwrite the development of a technical assistance guide for the Network that describes model approaches to community development undertaken by community action agencies. The guide will include information concerning: (1) How model community development agencies identify the broad needs to be addressed within their communities and the specific role to be played by community action; (2) how these agencies organize programs and services, and partnerships with other organizations in the community, to undertake or advance community development; and (3) what means the agencies use to track, record, and report the results of community development strategies.

OCS is particularly interested in collecting and disseminating information concerning the interrelationship of community action to various national, regional, State, or local economic development initiatives. The successful applicant for a grant to prepare the envisioned technical assistance document on community development will pay particular attention to this issue.

Eligible applicants: State CSBG Lead Agencies, State CAA Associations, local eligible entities, private non-profit organizations.

Anticipated Grant Awards: 1 (up to $45,000).

Sub-Priority Area 2.2 Strategic Measurement and Reporting of Community Outcomes Across Programs/Services (CO)

OCS will provide funds to assist one or more partners in the Network to develop strategies for measuring the results of individual and coordinated community development activities and for reporting these results. Specifically, OCS intends to support an activity similar to that described for Sub-priority area 1.4, the creation of technical assistance materials that lay out how individual activities, such as providing micro business loans to neighborhood residents, link to other individual activities to form a broader, more comprehensive effort to achieve meaningful and measurable community development. The successful applicant for funds to create this strategic technical assistance document will be expected to conduct a thorough review of community development literature and report their findings as they may relate to community development work conducted by community action agencies.

By providing the Network with such a strategic “mapping” of various elements and components of community development within the context of community action, OCS will help community action continue to make a transition from providing discrete, often disjointed services within a community, to a leader/contributor to more comprehensive community development efforts, that yield more robust and lasting outcomes.

Eligible applicants: State CSBG Lead Agencies, State CAA Associations, local eligible entities, private non-profit organizations.

Anticipated Grant Awards: 1 (up to $60,000).

Priority Area 3.0 Achieving Goal 3: Low-Income People Own a Stake in their Community

Community action is unique in its ability to both advocate for, and empower, low-income individuals and families, particularly as it relates to mobilizing citizens to achieve a greater sense of authority over their lives and future. Local agencies have used a variety of approaches to both stimulate citizen involvement in community activities and to measure the extent of such involvement.

In Fiscal Year 1998, the latest year for which ROMA data from States was analyzed, most community action agencies identified the following activities as supporting the achievement of Goal 3: (1) The number of community residents that volunteer time to agency activities, and the amount of volunteer hours served; (2) client involvement in community decision making, including service on CAA, school, housing, or other kinds of citizen advisory boards; (3) participation in community events; (4) youth participation in community activities and programs; and (5) the leveraging of funds for community investments.

Sub-Priority Area 3.1 Organizing/Coordinating Community Advocacy/Participation Programs (CM)

OCS believes that the Network would benefit from the sharing of information across programs on how community action is working toward achieving Goal 3 and will support the development of a technical assistance guide to empowering low-income individuals and families in their communities. The successful applicant for this grant will demonstrate in their application the means to: (1) Identify community action programs across the nation that have a successful history of mobilizing citizen participation and advocacy; (2) collect information from these programs on the planning, organization, implementation, and results of citizen advocacy/ participation efforts; (3) solicit observations from community action leaders and participating clients on how to overcome challenges and obstacles to citizen empowerment; (4) describe measures used to evaluate and report the extent and effectiveness of citizen empowerment by community action; and (5) summarize and analyze information presented by selected sites and individuals.

Eligible applicants: State CSBG Lead Agencies, State CAA Associations, local eligible entities, private non-profit organizations.

Anticipated Grant Awards: 1 (up to $45,000).

Sub-Priority Area 3.2 Community Advocacy/Participation Programs, Measurement and Reporting (CA)

OCS will provide funds to develop expanded strategies for measuring the results of individual and coordinated citizen empowerment and community advocacy activities and for reporting these results. Specifically, OCS intends to support an activity similar to that described for Sub-priority areas 1.4 and 2.2, the creation of technical assistance materials that lay out how individual activities, such as encouraging low-income community residents to become active in citizen advisory boards, link to other individual activities to form a broader, more comprehensive effort to achieve meaningful and measurable citizen involvement and empowerment. The successful applicant for funds to create this strategic technical assistance document will be expected to (1) Conduct a thorough review of citizen empowerment literature and report their findings as they may relate to the work conducted by community action agencies; (2) assess the current measurement strategies and individual measures used by community action to capture and report Goal 3 results; and (3) recommend more robust Goal 3 measures that could be used by the Network and step-by-step instructions on how to adapt the measures to the individual needs and approaches of local agencies.

Eligible applicants: State CSBG Lead Agencies, State CAA Associations, local eligible entities, private non-profit organizations.

Anticipated Grant Awards: 1 (up to $45,000).

Priority Area 4.0 Achieving Goal 4: Partnerships Among Supporters and Providers of Service to Low-Income People Are Achieved

One of the primary goals of the Administration is to encourage expansion of the number and kinds of organizations devoted to helping communities and low-income citizens achieve their potential. The Administration has organized a “Faith-based Initiative” that has, among other things, called for greater participation and public funding of faith-based groups providing community services as well as more coordination among the various agencies that address the needs of low-income communities, particularly community action.

OCS recognizes that the Network has a long history of forming partnerships with faith-based organizations and encourages further expansion of such collaborative efforts to achieve both client and community goals.

OCS intends to fund the development and dissemination of two technical assistance documents intended to help partners in the Network, at both the State and community levels, learn ways to enhance collaboration of community action with faith-based organizations and how such partnerships may strengthen program outcomes. In addition, OCS will support capacity-building efforts in selected States and/or communities to form new or expanded community action and faith-based partnerships to achieve specific client or community results, and to disseminate the results of these capacity-building efforts to the Network.

Sub-Priority Area 4.1 Coordination Strategies Between Community Action and Faith-Based Organizations To Advance ROMA Client Goals I and VI (FP)

OCS will fund up to four technical assistance and capacity building efforts to promote the achievement of client-focused Goals 1 and 6 through effective collaboration of community action and faith-based organizations:

(1) Guide to Achieving Client Outcomes Through Community Action Coordination With Faith-Based Organizations—OCS will support the development of a technical assistance guide to help State and local community action agencies learn of ways to establish or expand partnerships with faith-based organizations to advance client-focused community action Goals 1 and 6—client/family self-sufficiency and family strengthening. Specifically, the successful applicant for the grant to develop this guide will describe in its application how it will: (1) Identify State or local partners within the Network that have a history of successful linkage/collaboration with faith-based organizations working to achieve client-focused outcomes; (2) gather information about the ways these partnerships have been achieved, including formal and informal methods for establishing and maintaining the collaboration, interchange of information, human and financial resources, client referral and case management, capturing and reporting results; (3) gather insights and analyses from participating community action and faith-based staff and clients on particular strengths and challenges of such collaboration, and (4) develop a guide based on the information described above in a manner useful to the Network.

Eligible applicants: State CSBG Lead Agencies, State CAA Associations, local eligible entities, private non-profit organizations.

Anticipated Grant Awards: 1 (up to $45,000).

(2) Capacity-Building Grants To Promote Self-sufficiency and/or Family Strengthening Through Collaboration Between Community Action and Faith-Based Organizations—OCS will fund between one and three States or local community action agencies, or faith-based organizations, to build new or expanded collaborations. Specifically, OCS seeks to encourage innovative means of working among secular and religious organizations to promote client/family self-sufficiency and/or to strengthen families. The successful applicant(s) will describe in their application(s): (1) Specific goal(s) they intend to advance through new or expanded partnerships between community action and faith-based organizations; (2) specific and measurable client-focused results the proposed collaboration(s) are intended to achieve and the means by which such results will be measured and reported; (3) particular contributions each organizational partner will bring to the collaboration, including special skills, human and financial resources; (4) evidence of previous success, including descriptions of other collaborations and measurable client improvements that resulted from such collaborative work, and (5) formal letters of agreement and participation among all collaborating organizations with specific descriptions of anticipated contributions of resources and time to the effort.

Eligible applicants: State CSBG Lead Agencies, State CAA Associations, local eligible entities, and non-profit faith-based organizations.

Anticipated Grant Awards: Up to 3 ($20,000 each).

Sub-Priority Area 4.2 Coordination Strategies Between Community Action and Faith-Based Organizations To Advance ROMA Community Goals II and III (FC)

As with sub-priority area 4.1, OCS will fund up to four grants to promote the achievement of community-focused goals (community development and citizen empowerment) through new or expanded collaboration between community action and faith-based organizations. OCS will solicit applications in two categories:

(1) Guide to Achieving Community Development/Citizen Empowerment Goals Through Collaboration Between Community Action and Faith-Based Organizations—OCS will support the development of a technical assistance guide to help State and local community action agencies learn of ways to establish or expand partnerships with faith-based organizations to advance community development and citizen empowerment—community action national goals 2 and 3. Specifically, the successful applicant for the grant to develop this guide will describe in its application how it will: (1) Identify State or local partners within the Network that have a history of successful linkage/collaboration with faith-based organizations working to achieve community outcomes; (2) gather information about the ways these partnerships have been achieved, including formal and informal methods for establishing and maintaining the collaboration, interchange of information, human and financial resources, client referral and case management, capturing and reporting results; (3) gather insights and analyses from participating community action and faith-based staff and clients on particular strengths and challenges of such collaboration, and (4) develop a guide based on the information described above in a manner useful to the Network.

Eligible applicants: State CSBG Lead Agencies, State CAA Associations, local eligible entities, private non-profit organizations.

Anticipated Grant Awards: 1 (up to $45,000).

(2) Capacity-Building Grants To Promote Community Development and/or Citizen Empowerment Through Collaboration Between Community Action and Faith-Based Organizations—OCS will fund between one and three States or local community action agencies, or faith-based organizations, to build new or expanded collaborations. Specifically, OCS seeks to encourage innovative means of working among secular and religious organizations to promote community development and/or citizen empowerment. The successful applicant(s) will describe in their application(s): (1) Specific goal(s) they intend to advance through new or expanded partnerships between community action and faith-based organizations; (2) specific and measurable community and client-focused results the proposed collaboration(s) are intended to achieve and the means by which such results will be measured and reported; (3) particular contributions each organizational partner will bring to the collaboration, including special skills, human and financial resources; (4) evidence of previous success, including descriptions of other collaborations, measurable community and client improvements that resulted from such collaborative work, and (5) formal letters of agreement and participation among all collaborating organizations with specific descriptions of anticipated contributions of resources and time to the effort.

Eligible applicants: State CSBG Lead Agencies, State CAA Associations, local eligible entities, non-profit faith-based organizations.

Anticipated Grant Awards: Up to 3 ($20,000 each).

Priority Area 5.0 Achieving Goal 5: Agencies Increase Their Capacity To Achieve Results

Over the past eight years, OCS has worked cooperatively with State CSBG agencies, State CAA associations, and local entities to move the entire Community Services Network toward renewed strength, focus, effectiveness, and accountability. The work of the Monitoring and Assessment Task Force, composed of representatives of all partners in the Network, has resulted in broad-based understanding and gradual implementation of Results Oriented Management and Accountability, or ROMA. It is through ROMA that the Network continues to assure that community action is positioned to be the anti-poverty, community development force within many hundreds of communities.

During the Summer of 2001, OCS conducted a series of regional ROMA training and technical assistance conferences with leaders from State CSBG agencies, State CAA associations, and a number of local eligible entities. At these regional sessions, OCS encouraged State agencies and associations to work together to complete ROMA implementation by the time the Community Services Block Grant program is scheduled for reauthorization in Fiscal Year 2003. Completing ROMA implementation is important for a number of reasons, not the least of which is that it will strengthen community action at a time when the Administration and Congress are placing heavy emphasis on effectiveness and accountability among all domestic assistance programs.

At the ROMA regional meetings, OCS worked with State CSBG agency and association officials to develop ROMA implementation plans. OCS identified technical assistance opportunities that are now being funded through the Fiscal Year 2001 Training, Technical Assistance and Capacity-Building Grant Announcement (published July 2, 2001, 66 FR 34996), including, among a variety of efforts: (1) Basic program administration and financial management training at a National Academy; (2) leadership training through a number of special community action-focused programs; (3) training of ROMA instructors through a “train the trainers” initiative; and (4) financial support to underwrite the costs of tailored training contained in various State ROMA implementation plans.

OCS intends to continue its support of the special initiative to complete ROMA implementation by Fiscal Year 2003 and to maintain the impetus for full implementation generated by the regional meetings.

Sub-Priority Area 5.1 ROMA Training and Technical Assistance Clearinghouse (RC)

OCS will underwrite the creation and operation of a ROMA Training and Technical Assistance Clearinghouse to coordinate the on-going effort to achieve universal ROMA implementation by Fiscal Year 2003. The Clearinghouse will be responsible for a variety of tasks, including:

(1) Identifying individuals and information resources within, or associated with, the Network that can help State CSBG lead agencies, State CAA associations, and local eligible entities carry out their ROMA implementation plans;

(2) Serving as a referral source for partners in the Network seeking one or more forms of basic, intermediate, or advanced technical assistance on one or more of the following ROMA implementation areas:

(a) Leadership Training and the Use of ROMA for Program Renewal;

(b) ROMA-based Needs Assessment and Strategic Planning;

(c) Development and Use of Client, Community, or Organizational Outcome Measures;

(d) Strategic Board Selection and Involvement in Agency Goal Setting and Results-Oriented Oversight;

(e) Client and/or Community-Focused Programming and Service Delivery;

(f) ROMA-Focused Staffing (training, linkage to client/community outcomes);

(g) ROMA Compatible Information Systems (collection, analysis and report of client, community and/or organizational outcomes);

(h) Use of ROMA to Expand Program Linkages within and outside of Agency;

(i) Results-Oriented Financial Management; and

(j) Ways of Using ROMA to “Tell Our Story” Better to State legislatures, local governing authorities, and/or the public.

(3) Collecting and disseminating technical assistance materials to the network, including use of the ROMA website, www.ROMA1.org; and

(4) Organizing and/or conducting ROMA implementation training and technical assistance on-site visits, meetings, and/or conferences at the request of State CSBG lead agencies, State CAA associations, or local entities.

Eligible applicants: State CSBG Lead Agencies, State CAA Associations, local eligible entities, private non-profit organizations.

Anticipated Grant Awards: 1 (up to $200,000).

Sub-Priority Area 5.2 Board Training Programs (BT)

One of the clearest and most universal needs for technical assistance identified by community action agencies that responded to the ROMA Implementation Assessment conducted in the Spring of 2001 was the strengthening of local tripartite boards. Over 92% of Assessment respondents indicated that boards need training in a variety of topics to increase their capacity to lead and evaluate agency activities and outcomes, including: (1) Board responsibilities under the law; (2) basic board functioning; (3) board role in agency needs assessment, program planning, operations and evaluation; (4) ROMA principles and uses in all aspects of agency functioning; and (5) board selection, monitoring and evaluation of agency leadership.

OCS intends to fund the development of one or more board training programs to be made available throughout the Network. OCS will entertain applications for board training program development that focus on one or more of the following:

(1) Comprehensive Board Training Package—OCS will fund one grant for the development of a multi-media comprehensive board training package that covers all of the following topics: (a) Board responsibilities under the law; (b) basic board functioning; (c) board role in agency needs assessment, program planning, operations and evaluation; (d) ROMA principles and uses in all aspects of agency functioning; and (e) board selection, monitoring and evaluation of agency leadership. Information developed for each of these topics will be organized by the successful applicant into training modules, to be presented in writing, on the ROMA website, and on videotape. The successful applicant will develop model results-oriented planning, programming, and reporting instruments to facilitate communication between local agency officials and board members. The successful applicant will field-test materials and training approaches with Network partners, including local agency officials and representative board members, particularly the representatives of low-income families, before training packages are completed. The successful applicant will be responsible for working through the ROMA Implementation Clearinghouse to assure timely and effective dissemination of board training information to the Network.

Eligible applicants: State CSBG Lead Agencies, State CAA Associations local eligible entities, private non-profit organizations.

Anticipated Grant Awards: 1 (up to $100,000).

(2) Capacity-building Grants to States for Board Training—OCS will fund up to four grants to consortia of State CSBG lead agencies and their respective State CAA associations to undertake board training in one or more of the topics listed above. OCS is particularly interested in building the capacity of State agencies and associations to train boards in situations that present special challenges requiring tailored and special approaches, such as: (1) Wide geographic distances within a State that makes travel to and from a central training site/program difficult or impossible for agency staff and board members; (2) geographic isolation or great distances within the catchment area of an eligible entity, especially in multi-county rural areas; (3) inability of board members to attend extended training sessions, or sessions offered during normal working hours; (4) inability of agencies or board members to finance costs associated with training, including travel, income displacement, expenses, etc; and/or (5) lack of support for board training among local agency leadership and staff.

Successful applicants for capacity-building grants under this sub-priority area will include in their applications a description of the outcomes they expect to achieve through board training and how those outcomes will be measured.

Eligible applicants: State CSBG Lead Agencies in collaboration with State CAA Associations.

Anticipated Grant Awards: 4 (up to $25,000 each).

Sub-Priority Area 5.3 State Agency/Association ROMA Plan Implementation (RI)

As indicated, OCS invited State CSBG lead agencies and State CAA associations to apply for funds under sub-priority area 1.6 in the Fiscal Year 2001 competition for training, technical assistance and capacity-building grants to carry out ROMA implementation plans developed in conjunction with the five regional meetings held during July and August, 2001. A significant number of States submitted applications under sub-priority area 1.6 and have received assistance from that competition.

OCS invites State agencies and/or associations that need financial assistance to implement ROMA by Fiscal Year 2003 in accord with plans developed over the Summer, and that were unable to apply for funding during the FY 2001 competition that closed on September 16, 2001, to submit applications under this grant announcement.

Successful applicants will describe in their application: (1) What the State has accomplished in terms of ROMA implementation to date, using the eight ROMA “core activities” described in Information Memorandum No. 49 (four State and four eligible entity activities) as a guide for measuring progress; (2) how the State plans to complete ROMA implementation as defined by the core activities in Information Memorandum No. 49; (3) a list of activities the State will undertake, including training and technical assistance at the State and local levels, partnerships with other programs, creation of a State vision for community action, and the creation or modification of measurement and/or reporting tools for use by the State and local community action agencies; and (4) a timetable for completing activities described.

Applications submitted for funding under sub-priority 5.3 will be evaluated using the following criteria:

(1) Criterion I: Need for Assistance (Maximum: 20 Points)

The degree to which ROMA has been implemented to date at both the State and local levels using the “core activities” for States and eligible entities listed in Part B of this program announcement, including progress for each of the “core” activities, and what needs to be done to complete implementation of the activities before 2003. The application should reference the results of the ROMA implementation assessment conducted in the Spring of 2001 among CAAs in the State as part of their description of the need for assistance.

(2) Criterion II: Work Program (Maximum: 30 Points)

The degree to which specific activities to be undertaken will facilitate completion of State and eligible entity ROMA “core” activities by 2003, including specific training and technical assistance to be provided to CAAs, a schedule for conducting training and technical assistance, the anticipated participants (description of the level and functions of State and CAA staff), and trainers and/or consultants to be utilized from both within the State or from other parts of the Network.

(3) Criterion III: Significant and Beneficial Impact: (Maximum: 15 Points)

The degree to which activities described in Criterion II above will result in effective implementation of ROMA by 2003. Specifically, the extent to which ROMA implementation will benefit both the operation of community action programs at the State and local level and increase the capacity of such programs to achieve measurable and substantial improvement in the lives of individuals, families, and communities served.

(4) Criterion IV: Evidence of Significant Collaborations (Maximum: 10 Points)

The extent to which the State agency has enlisted the participation of the State CAA association in the design of the grant application and how the partnership between the State and its CAA association will implement the activities under the grant. Joint applications between the State agency and CAA association for funding under this sub-priority are encouraged. In addition, the extent to which other agencies that contribute funds to community action, at the State and local levels, will be encouraged to undertake performance-based management activities and/or will support the use of ROMA to measure and report the results of such programs.

(5) Criterion V: Ability of Applicant To Perform (Maximum: 20 Points)

The extent to which the State agency, the State CAA association, and/or local CAAs have developed an understanding of ROMA and their willingness to complete implementation before 2003. Specifically, the application should describe previous training received through attendance at regional or national ROMA-focused conferences, special workshops conducted by ROMA trainers, or visits to other States/CAAs for the purpose of learning about their ROMA activities.

(6) Criterion VI: Adequacy of Budget (Maximum: 5 Points)

The resources requested are reasonable and adequate to accomplish the project. (0-3 points)

Total costs are reasonable and consistent with anticipated results. (0-2 points)

Eligible applicants: State CSBG Lead Agencies and/or State CAA Associations.

Anticipated Grant Awards: 15 (up to $30,000 each).

Sub-Priority Area 5.4 Local Capacity-Building

The purpose of this sub-priority area is to promote management efficiency and program productivity among local eligible entities. It is essential that community action agencies have the opportunity to receive “seed” funds to develop and share effective program/management techniques addressing various aspects of anti-poverty work, including the implementation of ROMA. Grants under this sub-priority will be made to Community Action Agencies to promote such capacity building. Among the activities that may be supported by capacity-building grants are the development and sharing of: (1) Model needs assessment tools; (2) data processing innovations; (3) community organizing techniques; (4) use of scales to measure outcomes; (5) innovative tracking systems; (6) internal and external communication networks; (7) effective integration of information systems; and (8) successful leveraging strategies. Applicants must include a plan that describes how the results achieved under this project will be shared with the larger Community Services Network.

Eligible Applicants: Local eligible entities.

Anticipated Grant Awards: 10 (up to $20,000 each).

Priority Area 6.0 Achieving Goal 6: Low-Income People, Especially Vulnerable Populations, Achieve Their Potential by Strengthening Family and Other Supportive Systems

In their reporting of ROMA-based information, States have included a number of services, programs, and other forms of interventions under Goal 6. Indeed, the largest category of activities reported for Goal 6 by States and local community action agencies has been “meeting emergency needs.” Other categories reported with regularity are: (1) Housing; (2) independent living for the aging; and (3) emergency food. The category, “Family functioning/life skills,” ranked fifth in frequency among the 31 States and 577 local entities filing ROMA information in Fiscal Year 1998. Only 13 States and 73 local entities reported activities specifically focused on strengthening family functioning or general life skills of family members.

Because Goal 6 reflects the Administration's priority to strengthen families, particularly the role of fathers in child and family life, OCS intends to fund a number of technical assistance and capacity building activities focused on community action initiatives that seek to enhance outcomes for children and their families as a result of the presence and positive influence of fathers. OCS believes that without such an emphasis, low-income families will continue to exist with disproportionate numbers of absent fathers. Evidence indicates that the absence of participating fathers from households not only damages the economic condition and prospects for low-income families, but may also contribute to a number of negative social outcomes for children and youth that lack the guidance and emotional benefits that come from having two parents involved in their upbringing.

OCS intends to support a number of technical assistance and capacity-building activities designed to reflect and enhance the role of community action in strengthening families through the active involvement of fathers in child and family development.

In addition, OCS will support technical assistance and capacity-building activities focusing on helping strengthen families in which one or both parents are incarcerated. Finally, OCS will underwrite the development of a technical assistance guide to measuring community action efforts to strengthen families.

Sub-Priority Area 6.1 Strengthening the Role of Fathers and Marriage in Child and Family Life (MS)

OCS will fund up to four applications designed to build capacity within the Network to strengthen families through the involvement of fathers in family and child development:

(1) Strategies for Community Action to Strengthen the Role of Fathers and Marriage in Family and Child Development—OCS will underwrite the development of a technical assistance guide that describes ways in which community action has, or could, focus on promoting healthy marriages among low-income families and/or helping absent fathers remain involved in the lives of their children.

The successful applicant for the grant to develop this guide will demonstrate in their application the ability to: (1) Identify existing strategies within the Community Services Network that promote healthy marriages among low-income families, and/or the involvement of absent parents, especially fathers, in the creation and maintenance of stable and nurturing family environments; (2) identify possible strategies for strengthening families through healthy marriages and greater participation of absent fathers from programs/sources outside community action and assess ways the Network may adapt and adopt such strategies; (3) identify partnership opportunities with other programs, both within and outside the current administrative responsibilities of community action, that might help advance healthy marriages and the role of absent fathers in achieving family economic and functional wellbeing; and (4) develop a guide based on the information assembled in such a manner that will be useful to State and local community action officials.

Eligible applicants: State CSBG Lead Agencies, State CAA Associations, local eligible entities, private non-profit organizations.

Anticipated Grant Awards: 1 (up to $45,000).

(2) Capacity-Building Grants to Promote the Role of Fathers in Community Action Initiatives to Strengthen Families—OCS will fund up to three States or local eligible entities to develop special initiatives designed to strengthen family functioning outcomes due to the active involvement of fathers in family life. Specifically, the successful applicant(s) for these capacity-building grants will demonstrate in their applications the ability to: (a) Identify specific needs within the community involving the economic and social condition of fathers of low-income children and families, both present and absent from the household; (b) identify specific strategies for addressing those needs, including the development of coordinated interventions/services through partnerships with other service providers to enhance the status of affected males in their role as individuals and fathers to children in low-income families; (c) undertake special initiatives to involve fathers in the lives of their children and increase their capacity to contribute to the economic, developmental, and social wellbeing of those children; and (d) capture and report the results of such involvement on all appropriate aspects of family life (at a minimum, economic, social and developmental outcomes).

Eligible applicants: State CSBG Lead Agencies, State CAA Associations, local eligible entities.

Anticipated Grant Awards: 3 (up to $30,000 each).

Sub-Priority Area 6.2 Meeting the Special Needs of Children With an Incarcerated Parent(s) (IP)

OCS will fund up to three capacity-building grants to support the development of programs at the State or local level focused on community action assistance to children with incarcerated parent(s). Successful applicants for these grants must demonstrate in their applications the ability to: (1) Identify the number and needs of such children/families within the State or community; (2) design and implement programs and partnerships with other service providers to meet the needs identified; and (3) establish specific results to be achieved by the special initiatives and provide for the measurement and reporting of results.

OCS is particularly interested in supporting programs focused on helping children with incarcerated parent(s) live in safe, stable households and receive appropriate adult guidance, nurturing, and emotional support from custodial parents, guardians, or other adult mentoring relationships. Applicants may wish to consider the special role played by faith-based organizations in providing such support and include such organizations in community action partnerships as appropriate. In addition to focusing on the needs of children with incarcerated parents, applicants are encourage to seek funding for activities designed to address the needs of incarcerated parents as they relate to their parenting responsibilities to their children while incarcerated, during periods prior to release, and post-release from imprisonment (reentry counseling and adjustment assistance, family functioning/parenting skill training, etc).

Eligible applicants: State CSBG Lead Agencies, State CAA Associations, local eligible entities.

Anticipated Grant Awards: 3 (up to $30,000 each).

Sub-Priority Area 6.3 Network Guide to Measuring Family Development Outcomes (FD)

OCS will award one grant for the development of a guide to help the Network improve the measurement and reporting of family development outcomes in support of achieving Goal 6. The successful applicant for this grant will demonstrate in their application the ability to: (1) Identify model family functioning/family development measures that have been developed within and outside the Community Services Network used in social service programs; (2) correlate information about measurement tools to the kinds of programs/services provided by community action alone and in partnership with other service agencies; and (3) describe the relative benefits of various approaches to measuring family functioning/family development in terms of such factors as staff orientation/training and use, appropriateness to activities/interventions being measured, and information gathering/storage/and retrieval.

Eligible applicants: State CSBG Lead Agencies, State CAA Associations, local eligible entities, private non-profit organizations.

Anticipated Grant Awards: 1 (up to $45,000).

Part C—Application Prerequisites

1. Eligible Applicants

See individual sub-priority areas in Part B.

2. Availability of Funds

The total amount of funds currently available for new grant awards in FY 2002 under this Fall-Winter program announcement is $2,360,000. Subject to the availability of funds, an additional amount will be set aside for a Spring-Summer 2002 competition, which will include funding of various cooperative agreements and continuation grants to multi-year awards resulting from the Fiscal Year 2001 competition.

Amounts expected to be available and numbers of grants under each sub-priority area stated in Part B are as follows:

Sub-priority area | Approx. funds available for new projects | Estimated No. of new grants
1.1 Strengthening the “Self-sufficiency Continuum” (SC) | $120,000 | 6
1.2 Organizing/Coordinating Services Around Self-sufficiency: Welfare to Work (WW) | 205,000 | 6
1.3 Organizing/Coordinating Services Around Self-sufficiency/Independent Living Among the Aging or Disabled (SA) | 205,000 | 6
1.4 Strategic Measurement and Reporting of Self-sufficiency Outcomes (SM) | 60,000 | 3
1.5 The Use of Individual Development Accounts to Advance Self-sufficiency (ID) | 45,000 | 1
2.1 Organizing/Coordinating Community Development Programs (CD) | 45,000 | 1
2.2 Strategic Measurement and Reporting of Community Outcomes Across Programs (CO) | 60,000 | 1
3.1 Organizing/Coordinating Community Advocacy/Participation Programs (CM) | 45,000 | 1
3.2 Community Advocacy/Participation Programs, Measurement and Reporting (CA) | 45,000 | 1
4.1 Coordination Strategies Between Community Action and Faith-Based Organizations to Advance ROMA Client Goals 1 and 6 (FP) | 105,000 | 4
4.2 Coordination Strategies Between Community Action and Faith-based Organizations to Advance ROMA Community Goals 2 and 3 (FC) | 105,000 | 4
5.1 ROMA Training and Technical Assistance Clearinghouse (RC) | 200,000 | 1
5.2 Board Training Programs (BT) | 200,000 | 5
5.3 State Agency/Association ROMA Plan Implementation (RI) | 450,000 | 15
5.4 Local Capacity Building (CB) | 200,000 | 10
6.1 Strengthening the Role of Marriage and Absent Fathers in Child and Family Life (MS) | 135,000 | 4
6.2 Meeting the Special Needs of Children With an Incarcerated Parent(s) (IP) | 90,000 | 3
6.3 Network Guide to Measuring Family Development Outcomes (FD) | 45,000 | 1
Total | 2,360,000 | 73

3. Project and Budget Periods

For projects included in the FY 2002 Fall-Winter CSBG T&TA Program Announcement, the budget and project periods are 12 months.

4. Project Beneficiaries

The overall intended beneficiaries of the projects to be funded under the FY 2002 Fall-Winter CSBG T&TA Program Announcement are the various “partners” in the Community Services Network. Specific beneficiaries are indicated under each sub-priority area in Part B. It is the intent of OCS, through funding provided under this program announcement, to significantly strengthen the capacity of State and regional CAA associations to provide technical assistance and support to local service providers; to strengthen the capacity of State CSBG offices to collect and disseminate accurate and reliable data and to provide support for local service providers; and to enhance the capacities of local service providers themselves. The ultimate beneficiaries of improved program management, data and information collection and dissemination, and service quality of local service providers are low-income individuals, families, and communities.

5. Sub-Contracting or Delegating Projects

OCS will not fund any project where the role of the applicant is primarily to serve as a conduit for funds to organizations other than the applicant. This prohibition does not bar the making of subgrants or subcontracting for specific services or activities needed to conduct the project. However, the applicant must have a substantive role in the implementation of the project for which funding is requested.

6. Separate Multiple Applications

Separate applications must be made for each sub-priority area. Applicants that receive more than one grant for a common budget and project period must be mindful that salaries and wages claimed for the same persons cannot collectively exceed 100 percent of the total annual salary. The sub-priority area must be clearly identified by title and number.

7. Project Evaluations

Each application must include an assessment or self evaluation.

Part D—Application Procedures

1. Availability of Forms

Applications for awards under the FY 2002 Fall-Winter CSBG T&TA Program must be submitted on Standard Forms (SF) 424, 424A, and 424B. Part F and the attachments to this program announcement contain all the instructions and forms required for submission of an application. These forms may be photocopied for use in developing the application.

Part F also contains instructions for the project narrative. The project narrative must be submitted on plain bond paper along with the SF-424 and related forms.

A copy of this program announcement is available on the Internet through the OCS web site at: http://www.acf.dhhs.gov/programs/ocs.

If the program announcement cannot be accessed through the OCS web site, it can be obtained by writing or telephoning the office listed under the section entitled FOR FURTHER INFORMATION at the beginning of this program announcement.

2. Deadlines

Refer to the section entitled “Closing Date” at the beginning of this program announcement for the last day on which applications should be submitted.

Mailed applications shall be considered as meeting the announced deadline if they are received on or before deadline date or postmarked on or before the deadline date and received by ACF in time for the independent review. Mailed applications must be sent to: U.S. Department of Health and Human Services, Administration for Children and Families, Office of Grants Management, Office of Child Support Enforcement, “Attention: CSBG Training, Technical Assistance, and Capacity Building Program”, 370 L'Enfant Promenade, SW., Washington, DC 20447.

Applicants must ensure that a legibly dated U.S. Postal Service postmark or a legibly dated, machine produced postmark of a commercial mail service is affixed to the envelope/package containing the application(s). To be acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed.)

Applications hand-carried by applicants, applicant couriers, or by other representatives of the applicant shall be considered meeting an announced deadline if the are received on or before the deadline date, between the hours of 8 a.m. and 4:30 p.m. EST, Monday through Friday, excluding Federal holidays, at the: Administration for Children and Families, Office of Grants Management, Office of Child Support Enforcement, “Attention CSBG Training, Technical Assistance and Capacity Building Program”, 901 D Street, SW., 2nd Floor Mailroom, Washington, DC 20024.

ACF cannot accommodate transmission of applications by fax or through other electronic media. Therefore, applications transmitted to ACF electronically will not be accepted regardless of date or time of submission and time of receipt. Applications, once submitted, are considered final and no additional materials will be accepted.

Late applications. Applications that do not meet the criteria above are considered late applications. ACF shall notify each late applicant that its application will not be considered in the current competition.

Extension of deadlines. ACF may extend the deadline for all applicants affected by acts of God such as floods and hurricanes, when there is widespread disruption of the mail service. A determination to extend or waive deadline requirements rest with the Chief Grants Management Officer.

3. Number of Copies Required

One signed original application and two copies should be submitted at the time of initial submission (OMB 0970-0062). Two additional copies would be appreciated to facilitate the processing of applications.

4. Designation of Sub-Priority Area

The first page of the SF-424 must contain in the lower right-hand corner a designation indicating under which sub-priority are funds are being requested.

5. Paperwork Reduction Act of 1995 (P.L. 104-13)

Public reporting burden for this collection of information is estimated to average 10 hours per response, including time for reviewing instructions, gathering and maintaining the data needed and reviewing the collection of information.

The project description is approved under OMB Control Number 0970-0062 which expires 12/31/2001. However, a request has been submitted to OMB for an extension.

An agency may not conduct or sponsor and a person is not required to respond to, a collection of information unless it displays a currently valid OMB control number.

6. Intergovernmental Review

This program is covered under Executive Order 12372, “Intergovernmental Review of Federal Programs” and 45 CFR part 100, “Intergovernmental Review of Department of Health and Human Services Programs and Activities.” Under the Order, States may design their own processes for reviewing and commenting on proposed Federal assistance under covered programs.

The following States and Territories have elected not to participate under the Executive Order process: Arkansas, California, Delaware, District of Columbia, Florida, Georgia, Illinois, Iowa, Kentucky, Maine, Maryland, Michigan, Mississippi, Missouri, Nevada, New Hampshire, New Mexico, North Carolina, North Dakota, Rhode Island, South Carolina, Texas, Utah, West Virginia, Wisconsin, American Samoa, Guam. Puerto Rico, the Commonwealth of Northern Mariana Islands, and the United States Virgin Islands.

Applicants for projects to be administered by Federally recognized Indian Tribes are also exempt from the requirements of E.O. 12372. Otherwise, applicants should contact their Single Point of Contact (SPOC) as soon as possible to alert them of the prospective applications and receive any necessary instructions. Applicants must submit any required material to the SPOCs as soon as possible so that OCS can obtain and review SPOC comments as a part of the award process. It is imperative that the applicant submit all required materials, if any, to the SPOC and indicate the date of this submittal (or the date of contact if no submittal is required) on the Standard Form 424A, item 16a.

Under 45 CFR 100.8(a)(2), a SPOC has 60 days from the application deadline date to comment on proposed new or competing continuation awards.

SPOCs are encouraged to eliminate the submission of routine endorsements as official recommendations. Additionally, SPOCs are requested to clearly differentiate between mere advisory comments and those Official State process recommendations which they intend to trigger the “accommodate or explain” rule under 45 CFR 100.10.

When comments are submitted directly to ACF, they should be addressed to: Department of Health and Human Services, Administration for Children and Families, Office of Grants Management/OCSE, 4th Floor, Aerospace Center, 370 L'Enfant Promenade, SW., Washington, DC 20447.

A list of the Single Points of Contact for each State and Territory is included as Attachment I to this program announcement.

7. Application Consideration

Applications that meet the screening requirements in Sections 8.a. and 8.b. below will be reviewed competitively. Such applications will be referred to reviewers for a numerical score and explanatory comments based solely on responsiveness to program guidelines and evaluation criteria published in this announcement.

Qualified panelist not directly responsible for programmatic management of the grant will review applications. The results of these reviews will assist OCS in considering competing applications. Reviewers' scores will weigh heavily in funding decisions but will not be the only factors considered. Applications will be ranked and generally considered in order of the average scores assigned by reviewers. However, highly ranked applications are not guaranteed funding since other factors deemed relevant may be considered including, but not limited to, the timely and proper completion of projects funded with OCS funds granted in the past five years; comments of reviewers and government officials; staff evaluation and input; geographic distribution; previous program performance of applicants; compliance with grant terms under previous DHHS grants; audit reports; investigative reports; and applicant's progress in resolving any final audit disallowance on OCS or other Federal agency grants.

OCS reserves the right to discuss applications with other Federal or non-Federal funding sources to ascertain the applicant's performance record.

8. Criteria for Screening Applications

a. Initial Screening

All applicants will receive a written acknowledgment with an assigned identification number. This number, along with any other identifying codes, must be referenced in all subsequent communications concerning the application. If an acknowledgment is not received within three weeks after the deadline date, please notify ACF by telephone at (202) 401-5103. All applications that meet the published deadline for submission will be screened to determine completeness and conformity to the requirements of this Announcement. Only those applications meeting the following requirements will be reviewed and evaluated competitively. Others will be returned to the applicants with a notation that they were unacceptable.

(1) The application must contain a Standard Form 424 “Application for Federal Assistance” (SF-424), a budget (SF-424A), and signed “Assurances” (SF-424B) completed according to instructions published in Part F and Attachments A, B, and C of this program announcement.

(2) A budget narrative, which corresponds to the object class categories in the SF 424A for the use of Federal funds, must be included in the application.

(3) The SF-424 and the SF-424B must be signed by an official of the applicant organization who has authority to obligate the organization legally.

(4) A project narrative must also accompany the standard forms.

b. Pre-Rating Review

Applications, which pass the initial screening, will be forwarded to reviewers and/or OCS staff to verify, prior to the programmatic review, that the applications comply with this program announcement in the following areas:

(1) Eligibility: Applicant meets the eligibility requirements found in Part B. Applicant also must be aware that the applicant's legal name as required on the SF 424 (item 5) must match that listed as corresponding to the Employer Identification Number (Item 6).

(2) Duration of Project: The application contains a project that can be successfully implemented in the project period.

(3) Target Populations: The application clearly targets the specific outcomes and benefits of the project to State staff administering CSBG funds, CAA State or regional associations, and/or local providers of CSBG-funded services and activities. Benefits to low-income consumers of CSBG services also must be identified.

(4) Program Focus: The application must address the purpose of the sub-priority area under which funding is being requested.

An application may be disqualified from the competition and returned to the applicant if it does not conform to one or more of the above requirements.

c. Evaluation Criteria

Applications that pass the pre-rating review will be assessed and scored by reviewers. Each reviewer will give a numerical score to each application reviewed. These numerical scores will be supported by explanatory statements on a formal rating form describing major strengths and weaknesses under each applicable criterion published in this announcement.

The in-depth evaluation and review process will use the following criteria coupled with the specific requirements contained in Part B. (Applications for funding under Sub-priority 5.3, State Agency/Association ROMA Plan Implementation, will be evaluated based upon the requirements described in Part B only).

Criteria for Review and Evaluation of Applications Submitted Under This Program Announcement (Excluding Sub-Priority 5.3)

(1) Criterion I: Need for Assistance (Maximum: 20 Points)

(a) The application documents that the project addresses vital needs related to the purposes stated under the appropriate sub-priority area discussed in this program announcement (Part B) and provides statistics and other data and information in support of its contention. (0-10 points).

(b) The application provides current supporting documentation or other testimonies regarding needs from State CSBG Directors, local service providers and/or State and Regional organizations of local service providers. (0-10 points)

(2) Criterion II: Work Program (Maximum: 30 Points)

The work program is results-oriented, appropriately related to the legislative mandate and specifically related to the sub-priority area under which funds are being requested.

Applicant addresses the following: Specific outcomes to be achieved; performance targets that the project is committed to achieving, including reasons for not setting lower or higher target levels and how the project will verify the achievement of these targets; critical milestones which must be achieved if results are to be gained; organizational support, including priority this project has for the agency; past performance in similar work; and specific resources contributed to the project that are critical to success.

Applicant defines the comprehensive nature of the project and methods that will be used to ensure that the results can be used to address a statewide or nationwide project as defined by the priority area.

(3) Criterion III: Significant and Beneficial Impact: (Maximum: 15 Points)

Applicant adequately describes how the project will assure long-term program and management improvements and have advantages over other products offered to achieve the same outcomes for State CSBG offices, CAA State and/or regional associations, and/or local providers of CSBG services and activities.

The applicant indicates the types and amounts of public and/or private resources it will mobilize, how those resources will directly benefit the project, and how the project will ultimately benefit low-income individuals and families.

If proposing a project with a training and technical assistance focus, applicant indicates the number of organizations and/or staff it will impact.

If proposing a project with a data collection focus, applicant provides a description of the mechanism it will use to collect data, how it can assure collections from a significant number of States, and the number of States willing to submit data to the applicant.

If proposing to develop a symposium series or other policy-related project(s), the applicant identifies the number and types of beneficiaries.

Methods of securing participant feedback and evaluations of activities are described in the application.

(4) Criterion IV: Evidence of Significant Collaborations (Maximum 10 Points)

Applicant describes how it will involve partners in the Community Services Network in its activities. Where appropriate, applicant describes how it will interface with other related organizations.

If subcontracts are proposed, documentation of the willingness and capacity for the subcontracting organization(s) to participate is described.

(5) Criterion V: Ability of Applicant To Perform (Maximum: 20 Points)

(a) The applicant demonstrates that it has experience and a successful track record relevant to the specific activities and program area that it proposes to undertake.

If applicant is proposing to provide training and technical assistance, it details its competence in the specific program priority area and as a deliverer with expertise in the specific fields of training and technical assistance on a nationwide basis.

If applicable, information provided by the applicant also addresses related achievements and competence of each cooperating or sponsoring organization. (0-10 points)

(b) Applicant fully describes, for example in a resume, the experience and skills of the proposed project director and primary staff showing specific qualifications and professional experiences relevant to the successful implementation of the proposed project. (0-10 points)

(6) Criterion VI: Adequacy of Budget (Maximum: 5 Points)

(a) The resources requested are reasonable and adequate to accomplish the project. (0-3 points)

(b) Total costs are reasonable and consistent with anticipated results. (0-2 points)

Part E—Contents of Application and Receipt Process

1. Contents of Application

A cover letter containing an e-mail address and a facsimile (FAX) number, if available, should accompany the application. This will facilitate receipt of an acknowledgment from ACF that the application has been received. (See Part D., 8.a.)

Each application should include one original and two additional copies of the following:

a. A completed Standard Form 424 which has been signed by an official of the organization applying for the grant who has authority to obligate the organization legally. The applicant must be aware that, in signing and submitting the application for this award, it is certifying that it will comply with the Federal requirements concerning the drug-free workplace and debarment regulations set forth in Attachments D and E.

b.”Budget Information-Non-Construction Programs” (SF-424A). (Attachment B)

c. A completed, signed and dated “Assurances—Non-Construction Programs” (SF-424B). (Attachment C)

d. Drug-free Certification. (The applicant is certifying that it will comply with this requirement by signing and submitting the SF-424.) (Attachment D)

e. Debarment Certification. (Attachment E)

f. Certification Regarding Environmental Tobacco Smoke. (The applicant is certifying that it will comply with this requirement by signing and submitting the SF-424.) (Attachment F)

g. Disclosure of Lobbying Activities, SF-LLL. Complete, sign and date form, as appropriate. (Attachment G)

h. A Project Abstract of 500 words or less. The abstract should provide a succinct description of the need, project goals, and a summary of work plan and the proposed impact. Abstract will be maintained as part of the Grantee Administration Tracking System (GATES).

i. A Project Narrative consisting of the following elements preceded by a consecutively numbered table of contents that will describe the project in the following order:

(i) Need for Assistance.

(ii) Work Program.

(iii) Significant and Beneficial Impact.

(iv) Evidence of Significant Collaborations.

(v) Ability of Applicant to Perform.

(vi) Appendices including proof of non-profit status, such as IRS determination of non-profit status, where applicable; relevant sections of by-laws, articles of incorporation, and/or statement from appropriate State CSBG office which confirms eligibility; resumes; Single Point of Contact comments, where applicable; and any partnership/collaboration agreements.

The original must bear the signature of the authorizing official representing the applicant organization.

The total number of pages for the entire application package should not exceed 35 pages, including appendices. Pages should be numbered sequentially throughout.

If appendices include photocopied materials, they must be legible.

Applications should be two-hole punched at the top center and fastened separately with a compressor slide paper fastener or a binder clip. The submission of bound applications or applications enclosed in a binder are specifically discouraged.

Applications must be submitted on white 8½ x 11-inch paper only since OCS may find it necessary to duplicate them for review purposes. They must not include colored, oversized or folded materials; organizational brochures or other promotional materials; slides; films; clips; etc. They will be discarded if included.

Part F—Instructions for Completing Application Package (Approved by the OMB Under Control Number 0970-0062)

The standard forms attached to this program announcement shall be used when submitting applications for all funds under this announcement.

It is recommended that the applicant reproduce the SF-424, (Attachment A), SF-424A (Attachment B), SF-424B (Attachment C) and that the application be typed on the copies. If an item on the SF-424 cannot be answered or does not appear to be related or relevant to the assistance requested, the applicant should write “NA” for “Not applicable.”

The application should be prepared in accordance with the standard instructions in Attachments A and B corresponding to the forms, as well as the specific instructions set forth below:

1. SF-424 “Application for Federal Assistance”

Item

1. For the purposes of this program announcement, all projects are considered “Applications”; there are no “Pre-Applications.”

5 and 6. The legal name of the applicant must match that listed as corresponding to the Employer Identification Number. Where the applicant is a previous Department of Health and Human Services grantee, enter the Central Registry System Employee Identification Number (CRS/EIN) and the Payment Identifying Number, if one has been assigned, in the Block entitled “Federal Identifier” located at the top right hand corner of the form.

7. If the applicant is a non-profit corporation, enter “N” in the box and specify “non-profit corporation” in the space marked “Other.” Proof of non-profit status such as IRS determination, articles of incorporation, or by-laws, must be included as an appendix to the project narrative.

8. For the purposes of this announcement, all applications are “New.”

9. Enter “DHHS-ACF/OCS.”

10. The Catalog of Federal Domestic Assistance number for the OCS program covered under this announcement is “93.570.”

11. In addition to a brief descriptive title of the project, priority area designations must be used to indicate the priority and sub-priority areas for which funds are being requested:

The title is “Office of Community Services” Discretionary CSBG Awards—Fiscal Year 2001 Training, Technical Assistance, and Capacity-Building Programs.”

15a. For purposes of this announcement, this amount should reflect the amount requested for the entire project period.

15b-e. These items should reflect both cash and third party in-kind contributions for the total project period.

2. SF-424A—“Budget Information-Non-Construction Programs”

See instructions accompanying the form as well as the instructions set forth below:

In completing these sections, the Federal budget entries will relate to the requested OCS Training and Technical Assistance Program funds only, and Non-Federal will include mobilized funds from all other sources—applicant, State, and other. Federal funds, other than those requested from the Training and Technical Assistance Program should be included in Non-Federal entries.

Sections A and D must contain entries for both Federal (OCS) and non-Federal (mobilized).

Section A—Budget Summary

Col. (a): Line 1—Enter “OCS Training and Technical Assistance Program”;

Col. (b): Line 1—Enter “93.570”.

Col. (c) and (d): Not Applicable

Col. (e)-(g): For lines 1 enter in column (e), (f) and (g) the appropriate amounts needed to support the project for the entire project period.

Line 5—Enter the figures from Line 1 for all columns completed under (e), (f), and (g).

Section B—Budget Categories

This section should contain entries for OCS funds only. For all projects, the first budget period of 12 months will be entered in Column #1. Allowability of costs is governed by applicable cost principles set forth in 45 CFR Parts 74 and 92.

A separate itemized budget justification should be included to explain fully and justify major items, as indicated below. The budget justification should immediately follow the Table of Contents.

Column 5: Enter total requirements for Federal funds by the Object Class Categories of this section.

Line 6a—Personnel: Enter the total costs of salaries and wages.

Justification: Identify the project director. Specify by title or name the percentage of time allocated to the project, the individual annual salaries and the cost to the project (both Federal and Non-Federal) of the organization's staff who will be working on the project.

Line 6b—Fringe Benefits: Enter the total costs of fringe benefits, unless treated as part of an approved indirect cost rate which is entered on line 6j.

Justification: Enter the total costs of fringe benefits, unless treated as part of an approved indirect cost rate.

Line 6c—Travel: Enter total cost of all travel by employees of the project. Do not enter costs for consultant's travel.

Justification: Include the name(s) of traveler(s), total number of trips, destinations, length of stay, mileage rate, transportation costs and subsistence allowances.

Line 6d—Equipment: Enter the total costs of all non-expendable personal property to be acquired by the project. Equipment means tangible non-expendable personal property having a useful life of more than one year and an acquisition cost of $5,000 or more per unit.

Justification: Equipment to be purchased with Federal funds must be required to conduct the project, and the applicant organization or its subgrantees must not already have the equipment or a reasonable facsimile available to the project. The justification also must contain plans for future use or disposal of the equipment after the project ends.

Line 6e—Supplies: Enter the total costs of all tangible personal property (surplus) other than that included on line 6d.

Line 6h—Other: Enter the total of all other costs. Such costs, where applicable, may include, but are not limited to, insurance, food, medical and dental costs (noncontractual), fees and travel paid directly to individual consultants, local transportation (all travel which does not require per diem is considered local travel), space and equipment rentals, printing and publication, computer use training costs including tuition and stipends, training service costs including wage payments to individuals and supportive service payments, and staff development costs.

Line 6j—Indirect Charges: Enter the total amount of indirect costs. This line should be used only when the applicant currently has an indirect cost rate approved by the Department of Health and Human Services or other Federal agencies. With the exception of States and local governments, applicants should enclose a copy of the current approved rate agreement if it was negotiated with a Federal agency other than the Department of Health and Human Services. For an educational institution, the indirect costs on training grants will be allowed at the lesser of the institution's actual indirect costs or 8 percent of the total direct costs.

If the applicant organization is in the process of initially developing or renegotiating a rate, it should immediately, upon notification that an award will be made, develop a tentative indirect cost rate proposal based on its most recently completed fiscal year in accordance with the principles set forth in the pertinent DHHS Guide for Establishing Indirect Cost Rates, and submit it to the appropriate DHHS Regional Office.

It should be noted that when an indirect cost rate is requested, those costs included in the indirect cost pool cannot be budgeted or charged as direct costs to the grant.

Line 6k—Totals: The total amount shown in Section B, Column (5), should be the same as the amount shown in Section A, line 5, column (e).

Line 7—Program Income: Enter the estimated amount of income, if any is expected to be generated from this project. Separately show expected program income generated from OCS support and income generated from other mobilized funds. Do not add or subtract this amount from the budget total. Show the nature and source of income in the program narrative statement.

Column 5: Carry totals from column 1 to column 5 for all line items.

Justification: Describe the nature, source and anticipated use of program income in the Program Narrative Statement.

Section C—Non-Federal Resources

This section is to record the amounts of Non-Federal resources that will be used to support the project. Non-Federal resources refer to other than OCS funds for which the applicant has received a commitment. Provide a brief explanation, on a separate sheet, showing the type of contribution, broken out by Object Class Categories, section B.6) and whether it is cash or third party in-kind. The firm commitment of these required funds must be documented and submitted with the application.

Except in unusual situations, this documentation must be in the form of letters of commitment or letters of intent from the organization(s)/individuals from which funds will be received.

Line 8—Col. (a): Enter the project title.

Col. (b): Enter the amount of cash or donations to be made by the applicant.

Col. (c): Enter the State contribution.

Col. (d): Enter the amount of cash and third party in-kind contributions to be made from all other sources.

Col. (e): Enter the total of column (b), (c), and (d). Lines 9, 10, and 11 should be left blank.

Line 12—Carry the total of each column of line 8, (b) through (e). The amount in column (e) should be equal to the amount on section A, Line 5, and column (f).

Justification: Describe third party in-kind contributions, if included.

Section D—Forecasted Cash Needs

Line 13—Enter the amount of Federal (OCS) cash needed for this grant for first year and by quarter, during the first 12-month budget period.

Line 14—Enter the amount of cash from all other sources needed by quarter during the first year.

Line 15—Enter the total of Lines 13 and 14 for all columns.

Section E—Budget Estimates of Federal Funds Needed for Balance of the Project

To be completed by applicants applying for funds for a three year project period.

Section F—Other Budget Information

Line 21—Include narrative justification required under Section B for each object class category for the total project period.

Line 22—Enter the type of HHS or other Federal agency approved indirect cost rate (provisional, predetermined, final or fixed) that will be in effect during the funding period, the estimated amount of the base to which the rate is applied and the total indirect expense. Also, enter the date the rate was approved, where applicable. Attach a copy of the approved rate agreement if it was negotiated with a Federal agency other than the Department of Health and Human Services. If the applicant decides not apply an indirect cost rate to the proposal, then “this line should be left blank.”

Line 23—Provide any other explanations and continuation sheets required or deemed necessary to justify or explain the budget information.

3. SF-424B “Assurances Non-Construction”

Applicant must sign and return the “Assurances” found at Attachment C with its application.

4. Project Narrative

Each narrative section of the application must address one or more of the focus areas described in Part B and follow the format outlined below:

(a) Need for Assistance.

(b) Work Program.

(c) Significant and Beneficial Impact.

(d) Evidence of Significant Collaborations.

(e) Ability of the Applicant to Perform.

(f) Adequacy of the Budget.

Part G—Post Award Information and Reporting Requirements

Following approval of the applications selected for funding, notice of project approval and authority to draw down project funds will be made in writing. The official award document is the Financial Assistance Award, which indicates, the amount of Federal funds approved for use in the project, the project and budget periods for which support is provided, the terms and conditions of the award, and the total project period for which support is contemplated.

In addition to the standard terms and conditions which will be applicable to grants, grantee will be subject to the provisions of 45 CFR parts 74 (non-governmental) and 92 (governmental) and OMB Circulars A-122 (nonprofit) and A-87 (governmental).

Grantees will be required to submit semi-annual program progress narrative and financial reports (SF-269) as well as a final program progress narrative report and a final financial report.

Grantees are subject to the audit requirements in 45 CFR parts 74 (non-governmental) and 92 (governmental) and OMB Circular A-133.

Section 319 of Public Law 101-121, signed into law on October 23, 1989 imposes prohibitions and requirements for disclosure and certification related to lobbying on recipients of Federal contracts, grants, cooperative agreements, and loans. It provides exemptions for Indian tribes and tribal organizations. Current and prospective recipients (and their sub-tier contractors and/or grantees) are prohibited from using Federal funds, other than profits from a Federal contract, for lobbying Congress or any Federal agency in connection with the award of a contract, grant, cooperative agreement, or loan. In addition, for each award action in excess of $100,000 (or $150,000 for loans) the law requires recipients and their subtier contractors and/or subgrantees (1) to certify that they have neither used nor will use any appropriated funds for payment to lobbyists, (2) to disclose the name, address, payment details, and purpose of any agreements with lobbyists whom recipients or their subtier Contractors or subgrantee will pay with profits or non-appropriated funds on or after December 22, 1989, and (3) to file quarterly up-dates about the use of lobbyists if material changes occur in their use. The law establishes civil penalties for noncompliance. See Attachment F for certification and disclosure forms to be submitted with the applications for this program.

Public Law 103-227, Part C. Environmental Tobacco Smoke, also known as the Pro-Children Act of 1994 (Act), requires that smoking not be permitted in any portion of any indoor facility owned or leased or contracted for by an entity and used routinely or regularly for the provision of health, day care, education, or library services to children under the age of 18, if the services are funded by Federal programs either directly or through States or local governmental by Federal grant, contract, loan or loan guarantee. The law does not apply to facilities funded solely by Medicare or Medicaid funds, and portions of facilities used for in-patient drug or alcohol treatment. Failure to comply with the provisions of the law may result in the imposition of a civil monetary penalty of up to $1,000 per day and/or the imposition of an administrative compliance order on the responsible entity.

By signing and submitting this application, the applicant/grantee certifies that it will comply with the requirement of the Act. The applicant/grantee further agrees that it will require the language of this certification be included in any sub-awards, which contain provisions for children's services and that all subgrantees shall certify accordingly.

Attachment H indicates the regulations that apply to all applicants/grantees under this program.

Dated: January 11, 2002.
Clarence Carter,
Director, Office of Community Services.

CSBG Training, Technical Assistance and Capacity-Building Program

List of Attachments

A—Application for Federal Assistance, SF 424

B—Budget Information—Non-Construction Programs, SF 424A

C—Assurances—Non-Construction Programs, SF 424B

D—Certification Regarding Drug-Free Work Place

E—Debarment Certification

F—Certification Regarding Environmental Tobacco Smoke

G—Disclosure of Lobbying Activities, SF-LLL

H—Listing of Regulations Applicable to All Grantees

I—Listing of State Single Points of Contact

BILLING CODE 4184-01-P

BILLING CODE 4184-01-C

Public reporting burden for this collection of information is estimated to average 45 minutes per response, including time for reviewing instructions, searching existing data sources, gathering and maintaining existing data sources, gathering and maintaining the data needed, and completing and reviewing the collection of information. Send comments regarding the burden estimate or any other aspect of this collection of information, including suggestions for reducing this burden, to the Office of Management and Budget, Paperwork Reduction Project (0348-0043), Washington, DC 20503.

Please do not return your completed form to the Office of Management and Budget. Send it to the address provided by the sponsoring agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (If applicable).

3. State use only (if applicable).

4. If this application is to continue or revise an existing award, enter present Federal identifier number. If for a new project, leave blank.

5. Legal name of applicant, name of primary organizational unit which will undertake the asistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completed date.

—“Revision” means any change in the Federal Government's financial obligation or contingent liability form an existing obligation.

9. Name of Federal agency from which assistance is being requested with this application.

10. Use the Catalog of Federal Domestic Assistance number and title of the programs under which assistance is requested.

11. Enter a brief descriptive title of the project. If more than one program is involved, your should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt included delinquent audit disallowances, loans and taxes.

18. To be signed by the authorized representative of the applicant. A copy of the governing body's authorization for you to sign this application as official representative must be on file in the applicant's office (Certain Federal agencies may require that this authorization be submitted as part of the application.)

BILLING CODE 4184-01-P

BILLING CODE 4184-01-C

Instructions for the SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please do not return your completed form to the Office of Management and Budget. Send to the address provided by the sponsoring agency.

General Instructions

This form is designed so that application can be made for funds from one or more grant programs. In preparing the budget, adhere to any existing Federal grantor agency guidelines which prescribe now and whether budgeted amounts should be separately shown for different functions or activities within the program. For some programs, grantor agencies my require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Line a-k of Section B.

Section A. Budget Summary Lines 1-4 Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity of function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g).

For new applications, leave Column (c) and (d) blank. For each line entry on Columns (a) and (b), enter in Columns (e), (f), and (g) the appropriate amounts of funds needed to support the project for the first funding period usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the total for all columns used.

Section B. Budget Categories

In the Column headings (1) through (4), enter the titles of the same programs, functions, and activities shown on Lines 1-4, Column (a), Section A. When additional sheets are prepared for Section A, provide similar column headings on each sheet. For each program, function or activity, fill in the total requirements for funds (both Federal and non-Federal) by object class categories.

Lines 6a-J—Show the totals of Lines 6a to 65h in each column.

Lines 6j—Show the amount of indirect cost.

Line 6k—Enter the total amounts on lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11—Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State cash and in-kind contribution if the applicant is not a State or State agency. Applicants which are a State or State agencies should leave this column blank.

Column (d)—Enter the amount of cash and in-kind contributions to be made from all other sources.

Column (e)—Enter total of Columns (b), (c), and (d).

Line 12—Enter the total for each of Columns (b)-(e). The amount in Column (e) should be equal to the amount on Line 5, Column (f), Section A.

Section D. Forecasted Cash Needs

Line 13—Enter the amount of cash needed by quarter from the grantor agency during the first year.

Line 14—Enter the amount of cash from all other sources needed by quarter during the first year.

Line 15—Enter the totals of amounts on Lines 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are need to list the program titles, submit additional schedules as necessary.

Line 20—Enter the total for each of the Columns (b)-(3). When additional schedules are prepared for this Section, annotate accordingly and show the overall totals on this line.

Section F. Other Budget Information

Line 21—Use this space to explain amounts of individual direct object class cost categories that may appear to be out of the ordinary or to explain the details as required by the Federal grantor agency.

Line 22—Enter the type of indirect rate (provisions, predetermined, final or fixed) that will be in effect during the funding period, the estimated amount of the base to which the rate is applied, and the total indirect expense.

Line 23—Provide any other explanations or comments deemed necessary.

Attachment C: Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

Please do not return your completed form to the Office of Management and Budget. Send it to the address provided by the sponsoring agency.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning management and completion of the project described in this application.

2. Will give the awarding agency, the Comptroller General of the United States and, if appropriate, the State, through any authorized representative, access to and the right to examine all records, books, papers, or documents relating to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for program funded under one of the 19 statutes or regulations specified in Appendix A of OPM's Standards for a Merit System of Personnel Administration (5 CFR 900, Subpart F).

6. Will comply with all Federal statutes relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee3), as amended, relating to confidentiality of alcohol and drug abuse patient records; (h) Title VIII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable with flood insurance purchase requirements of Section 102(a) of the Flood Disaster Protection Act of 1973 (P.L. 93-234) which requires recipients in a special flood hazard if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq.); (f) conformity of Federal actions to State (Clean Air) implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133, “Audit of States, Local Governments, and Non-Profit Organizations.”

18. Will comply with all applicable requirements of all other Federal laws, executive orders, regulations, and policies governing this program.

Signature of Authorized Certifying Official

Applicant Organization

Title

Date Submitted

Certification Regarding Drug-Free Workplace Requirements

This certification is required by the regulations implementing the Drug-Free Workplace Act of 1988: 45 CFR Part 76, Subpart, F. Sections 76.630(c) and (d)(2) and 76.645(a)(1) and (b) provide that a Federal Agency may designate a central receipt point for State-wide and State Agency-wide certifications, and for notification of criminal drug convictions. For the Department of Health and Human Services, the central pint is: Division of Grants Management and Oversight, Office of Management and Acquisition, Department of Health and Human Services, Room 517-D, 200 Independence Avenue, SW., Washington, DC 20201.

Certification Regarding Drug-Free Workplace requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes:

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal State or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street Address, City, County, State, Zip Code)

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification numbers(s) of each affected grant.

Attachment E: Administration for Children and Families U.S. Department of Health and Human Services—Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that w which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [Page 33043] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility an Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Attachment F: Certification Regarding Environmental Tobacco Smoke

Public Law 103227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $100 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment G: Certification Regarding Lobbying

Certification for Contracts, Grants, Loans, and Cooperative Agreements

The undersigned certifiefs, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federeal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

BILLING CODE 4184-01-P

BILLING CODE 4184-01-C

Instructions for Completion of SF-LL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number, Invitation for Bid (IFB) number, grant announcement number; the contract, grant, or loan award number; the application/proposal control number assigned by the Federal agency). Include prefixes, e.g., “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

b. Enter the full names of the individual(s) performing services, and include full address if different from 10(a). Enter Last Name, First Name, and Middle Initial (MI).

11. The certifying official shall sign and date the form, print his/her name, title, and telephone number.

According to the Paperwork Reduction Act, as amended, no opersons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Attachment H: Department of Health and Human Services (DHHS), Administration for Children and Families (ACF), Standard Terms and Conditions—Discretionary Grants

The attached Financial Assistance Award is subject to Federal legislation and to DHHS and ACF regulations and policies. These include the following:

1. For institutions of higher education, hospitals, other non-profit organizations, and commercial (for-profit) organizations, Title 45 of the Code of Federal Regulations (45 CFR) Part 74, “Uniform Administrative Requirements for Awards and Sub-awards to Institutions of Higher Education; Hospitals, Other Non-Profit Organizations; and Commercial Organizations; and Certain Grants and Agreements with States, Local Governments and Indian Tribal Governments.” http://www.access.gpo.gov/nara/cfr/waisidx_99/45cfr74_99.html.

2. For States, local governments and Federally recognized Indian Tribes, 45 CFR Part 92, “Uniform Administrative Requirements for Grants and Cooperative Agreements to State and Local Governments.” http://www.access.gpo.gov/nara/cfr/waisidx_99/45cfr92_99.html.

3. Other DHHS regulations codified in Title 45 of the Code of Federal Regulations: http://www.access.gpo.gov/nara/cfr/waisidx_00/45cfrv1_00.html.

Part 16—Procedures of the Departmental Grants Appeals Board

Part 30—Claims Collections

Part 46—Protection of Human Subjects

Part 76—Government-wide Debarment and Suspension (Non-Procurement) and Government-wide Requirements for Drug-Free Workplace (Grants)

Part 80—Nondiscrimination Under Programs Receiving Federal Assistance through the DHHS Effectuation of Title VI of the Civil Rights Acts of 1964

Part 81—Practice and Procedure of Hearings Under Part 80 of this Title

Part 84—Nondiscrimination on the Basis of Handicap in Programs and Activities receiving Federal Financial Assistance

Part 86—Nondiscrimination on the Basis of Sex in Education Programs and Activities receiving or benefiting from Federal Financial Assistance

Part 91—Nondiscrimination on the Basis of Age in DHHS Programs or Activities receiving Federal Financial Assistance

Part 93—New Restrictions on Lobbying

Part 100—Intergovernmental review of DHHS Program and Activities

4. 37 CFR Part 401—Right to Inventions made by Nonprofit Organizations and Small Business firms under Government Grants, Contracts, and Cooperative Agreements. http://www.access.gpo.gov/nara/cfr/waisidx_00/37cfr401_00.html.

5. The receipt organization must carry out the project according to the application as approved by the Administration for Children and Families (ACF), including the proposed work program and any amendments, all of which are incorporated by reference in these terms and conditions.

6. If this a multi-year project and it is not the final budget period, the grantee is advised that future awards for continuation of this project will be dependent upon the availability of Federal funds, satisfactory progress by the grantee, and ACF's determination that continued funding is in the best interest of the Federal government.

7. Grantees shall liquidate all obligations incurred under the award no later than 90 days after the end of the project period. The only exceptions to this rule are the basic Head Start grants with an indefinite project period. For these grants, liquidation of obligations should occur no later than 90 days after each budget period. In either case, an unobligations balance from a prior budget period does not authorize a grantee to obligate funds in excess of the total federally approved budget reflected on the FAA for the current budget period.

8. The DHHS Inspector General maintains a toll free number, 800-HHS-TIPS (800-447-8477), for receiving information concerning fraud, waste or abuse under grants and cooperative agreements. Such reports are kept confidential, and callers may decline to give their names if they choose to remain anonymous. http://www.dhhs.gov/progorg/oei/hotline/hhshot.html.

9. The grantee will take all necessary affirmative steps to ensure that small, minority and women-owned business firms are utilized when possible as sources of supplies, services, equipment and construction. To the extent practicable, all equipment and products purchased with funds made available through this award should be American made.

10. Failure to submit reports (i.e., financial, progress, or other required reports) on time may be the basis for withholding financial assistance payments, suspension, termination or denial or refunding. A history of such unsatisfactory performance may result in designation of “high-risk” status for the recipient organization and may jeopardize potential future funding from DHHS.

11. Under Section 508 of Public Law 103-333, the following condition is applicable to all Federal awards: “When issuing statements, press releases, requests for proposals, bid solicitations and other documents describing projects or programs funded in whole or in part with Federal money, all grantees receiving Federal funds, including but not limited to State and local governments and recipient of Federal research grants shall clearly state (1) the percentage of the total costs of the program or project which will be financed with Federal money, (2) the dollar amount of Federal funds for the project or program, and (3) the percentage and dollar amount of total costs of the project or program that will be refinanced by nongovernmental sources.”

12. Public Law 103-227, Part C—Environmental Tobacco Smoke, also known as the Pro-Children's Act of 1994 requires that smoking not be permitted in any portion of any indoor facility owned or leased or contracted for by an entity and used routinely or regularly for the provision of health, day care, education, or library services to children under the age of 18, if the services are funded by Federal programs either directly or through State or local governments, by Federal grant, contract, loan, or loan guarantees. The law does not apply to children's services provided in private residences, facilities funded solely by Medicare or Medicaid funds, and portions of facilities used for impatient drug or alcohol treatment. http://www.ed.gov/legislation/GOALS2000/TheAct/sec1043.html.

13. For purposes of this award each item of equipment with acquisition cost of less than $5,000 is included under supplies, is allowable as a direct cost of this project, and does not require for prior approval of the Grants Officer. Conversely, an item of equipment with an acquisition cost of $5,000 or more is NOT considered an allowable project cost without prior approval of the Grants Management Officer.

14. The Grantee shall comply with all provisions of OMB Circular A-133 (revised June 24, 1997), “Audit of State, Local Government and Non-Profit Organizations.” http://www.whitehouse.gov/omb/circulars/a133/a133.html.

Grantees that expend a total of $300,000 or more in Federal funds are required to submit an annual audit within nine months after the end of the audit period. The Reporting Package should include: (1) SF-SAC-Data Collection Form for Reporting on Audits of State, Local Governments and Non-Profit Organizations. http://harvester.census.gov/fac/collect/formoptions.html; (2) summary of prior audit findings; (3) auditors reports and (4) corrective action plans. Copies of this Reporting Package are to be sent to: Single Audit Clearinghouse. Bureau of the Census, 1201 East 10th Street, Jeffersonville, Indiana 47132.

15. Grantee shall comply with the particular set of Federal cost principles that applies in determining allowable cost. Allowability of costs shall be determined in accordance with the cost principles applicable to the entity incurring the costs:

• The allowability of costs incurred by State, local or Federally-recognized Indian tribal governments is determined in accordance with the provisions of OMB Circular A-87, “Cost Principles for States and Local Governments.” http://www.whitehouse.gov/omb/circulars/a087/a087.html.

• The allowability of costs incurred by nonprofit organizations (except for those listed in Attachment C of Circular A-122) is determined in accordance with the provisions of OMB Circular A-122, “Cost Principles for Nonprofit Organizations” and paragraph (b) of 45 CFR, 74.27. http://www.whitehouse.gov/omb/circulars/a122/a122.html.

• The allowability of costs incurred by institutions of higher education is determined in accordance with the provisions of OMB Circular A-21, “Cost Principles for Educational Institutions.” http://www.whitehouse.gov/omb/circulars/a021/a21.html.

• The allowability of costs incurred by hospital is determined in accordance with the provisions of Appendix E of 45 CFR Part 74, “Principles for Determining Cost Applicable to Research and Development Under Grants and Contracts with Hospitals.”

• The allowability for costs incurred by commercial organizations and those non-profit organizations listed in Attachment C to Circular A-122 is determined in accordance with the provision of the Federal Acquisition Regulation (FAR) at 48 CFR Part 31, except that independent research and development costs are unallowable. http://www.access.gpo.gov/nara/cfr/waisidx_99/48cfr31_99.html.

Attachment I: State Single Point of Contact Listing Maintained by OMB

In accordance with Executive Order #12372, “Intergovernmental Review of Federal Programs,” Section 4, “the Office of Management and Budget (OMB) shall maintain a list of official State entities designated by the States to review and coordinate proposed Federal financial assistance and direct Federal development.” This attached listing is the Official OMB Listing. OMB's point of contact for the SPOC list is Frederick J. Charney (202) 395-3993 or grants@omb.eop.gov. This listing is also published in the Catalogue of Federal Domestic Assistance biannually.

OMB State Single Point of Contact Listing*, October 5, 1999

Arizona

Joni Saad, Arizona State Clearinghouse, 3800 N. Central Avenue, Fourteenth Floor, Phoenix, Arizona 85012, Telephone: (602) 280-1315, FAX: (602) 280-8144

Arkansas

Mr. Tracy L. Copeland, Manager, State Clearinghouse, Office of Intergovernmental Services, Department of Finance and Administration, 515 W. 7th St., Room 412, Little Rock, Arkansas 72203, Telephone: (501) 682-1074, FAX: (501) 682-5206

California

Grants Coordination, State Clearinghouse, Office of Planning & Research, 1400 Tenth Street, Room 121, Sacramento, California 95814, Telephone: (916) 445-0613, FAX: (916) 323-3018

Delaware

Francine Booth, State Single Point of Contact, Executive Department, Office of the Budget, 540 S. Dupont Highway, Suite 5, Dover, Delaware 19901, Telephone: (302) 739-3326, FAX: (302) 739-5661

District of Columbia

Charles Nichols, State Single Point of Contact, Office of Grants Mgmt. & Dev., 717 14th Street, NW., Suite 1200, Washington, DC 20005, Telephone: (202) 727-1700 (direct), (202) 727-6537 (secretary), FAX: (202) 727-1617

Florida

Florida State Clearinghouse, Department of Community Affairs, 2555 Shumard Oak Blvd., Tallahassee, Florida 32399-2100, Telephone: (850) 922-5438, FAX: (850) 414-0479, Contact: Cherie Trainor, (850) 414-5495

Georgia

Deborah Stephens, Coordinator, Georgia State Clearinghouse, 270 Washington Street, SW.—8th Floor, Atlanta, Georgia 30334, Telephone: (404) 656-3855, FAX: (404) 656-7901

Illinois

Virginia Bova, State Single Point of Contact, Illinois Department of Commerce and Community Affairs, James R. Thompson Center, 100 West Randolph, Suite 3-400, Chicago, Illinois 60601, Telephone: (312) 814-6028, FAX: (312) 814-1800

Indiana

Renee Miller, State Budget Agency, 212 State House, Indianapolis, Indiana 46204-2796, Telephone: (317) 232-2971 (directline), FAX: (317) 233-3323

Iowa

Steven R. McCann, Division for Community Assistance, Iowa Department of Economic Development, 200 East Grand Avenue, Des Moines, Iowa 50309, Telephone: (515) 242-4719, FAX: (515) 242-4809

Kentucky

Kevin J. Goldsmith, Director, Sandra Brewer, Executive Secretary, Intergovernmental Affairs, Office of the Governor, 700 Capitol Avenue, Frankfort, Kentucky 40601, Telephone: (502) 564-2611, FAX: (502) 564-0437

Maine

Joyce Benson, State Planning Office, 184 State Street, 38 State House Station, Augusta, Maine 04333, Telephone: (207) 287-3261, FAX: (207) 287-6489

Maryland

Linda Janey, Manager, Plan & Project Review, Maryland Office of Planning, 301 W. Preston Street, Room 1104, Baltimore, Maryland 21201-2365, Staff Contact: Linda Janey, Telephone: (410) 767-4490, FAX: (410) 767-4480

Michigan

Richard Pfaff, Southeast Michigan Council of Governments, 660 Plaza Drive—Suite 1900, Detroit, Michigan 48226, Telephone: (313) 961-4266, FAX: (313) 961-4869

Mississippi

Cathy Mallette, Clearinghouse Officer, Department of Finance and Administration, 550 High Street, 303 Walters Sillers Building, Jackson, Mississippi 39201-3087, Telephone: (601) 359-6762, FAX: (601) 359-6758

Missouri

Lois Pohl, Federal Assistance Clearinghouse, Office of Administration, P.O. Box 809, Jefferson Building, 9th Floor, Jefferson City, Missouri 65102, Telephone: (314) 751-4834, FAX: (314) 751-7819

Nevada

Department of Administration, State Clearinghouse, 209 E. Musser Street, Room 220, Carson City, Nevada 89710, Telephone: (702) 687-4065, FAX: (702) 687-3983, Contact: Heather Elliot, (702) 687-6367

New Hampshire

Jeffrey H. Taylor, Director, New Hampshire Office of State Planning, Attn: Intergovernmental Review Process, Mike Blake, 2½ Beacon Street, Concord, New Hampshire 03301, Telephone: (603) 271-2155, FAX: (603) 271-1728

New Mexico

Nick Mandell, Local Government Division, Room 201, Bataan Memorial Building, Santa Fe, New Mexico 87503, Telephone: (505) 827-3640, FAX: (505) 827-4984

North Carolina

Jeanette Furney, North Carolina Department of Administration, 116 West Jones Street—Suite 5106, Raleigh, North Carolina 27603-8003, Telephone: (919) 733-7232, FAX: (919) 733-9571

North Dakota

North Dakota Single Point of Contact, Office of Intergovernmental Assistance, 600 East Boulevard Avenue, Bismarck, North Dakota 58505-0170, Telephone: (701) 224-2094, FAX: (701) 224-2308

Rhode Island

Kevin Nelson, Review Coordinator, Department of Administration, Division of Planning, One Capitol Hill, 4th Floor, Providence, Rhode Island 02908-5870, Telephone: (401) 277-2656, FAX: (401) 277-2083

South Carolina

Omeagia Burgess, State Single Point of Contact, Budget and Control Board, Office of State Budget, 1122 Ladies Street—12th Floor, Columbia, South Carolina 29201, Telephone: (803) 734-0494, FAX: (803) 734-0645

Texas

Tom Adams, Governors Office, Director, Intergovernmental Coordination, P.O. Box 12428, Austin, Texas 78711, Telephone: (512) 463-1771, FAX: (512) 936-2681

Utah

Carolyn Wright, Utah State Clearinghouse, Office of Planning and Budget, Room 116 State Capitol, Salt Lake City, Utah 84114, Telephone: (801) 538-1027, FAX: (801) 538-1547

West Virginia

Fred Cutlip, Director, Community Development Division, W. Virginia Development Office, Building #6, Room 553, Charleston, West Virginia 25305, Telephone: (304) 558-4010, FAX: (304) 558-3248

Wisconsin

Jeff Smith, Section Chief, Federal/State Relations, Wisconsin Department of Admninistration, 101 East Wilson Street—6th Floor, P.O. Box 7868, Madison, Wisconsin 53707, Telephone: (608) 266-0267, FAX: (608) 267-6931

Wyoming

Sandy Ross, State Single Point of Contact, Department of Administration and Information, 2001 Capitol Avenue, Room 214, Cheyenne, WY 82002, Telephone: (307) 777-5492, FAX: (307) 777-3696

Territories

Guam

Joseph Rivera, Acting Director, Bureau of Budget and Management Research, Office of the Governor, P.O. Box 2950, Agana, Guam 96932, Telephone: (671) 475-9411 or 9412, FAX: (671) 472-2825

Puerto Rico

Jose Caballero-Mercado, Chairman, Puerto Rico Planning Board, Federal Proposals Review Office, Minillas Government Center, P.O. Box 41119, San Juan, Puerto Rico 00940-1119, Telephone: (787) 727-4444, FAX: (787) 724-3270

North Mariana Islands

Mr. Alvaro A. Santos, Executive Officer, Office of Management and Budget, Office of the Governor, Saipan, MP 96950, Telephone: (670) 664-2256, FAX: (670) 664-2272, Contact person: Ms. Jacoba T. Seman, Federal Programs Coordinator, Telephone: (670) 664-2289, FAX: (670) 664-2272

Virgin Islands

Nellon Bowry, Director, Office of Management and Budget, #41 Norregade Emancipation Garden, Station, Second Floor, Saint Thomas, Virgin Islands 00802

Please direct all questions and correspondence about intergovernmental review to: Linda Clarke, Telephone: (809) 774-0750, FAX: (809) 776-0069.

If you would like a copy of this list faxed to your office, please call our publications office at: (202) 395-9068.

*In accordance with Executive Order #12372, “Intergovernmental Review of Federal Programs,” this listing represents the designated State Single Points of Contact. The jurisdictions not listed no longer participate in the process BUT GRANT APPLICANTS ARE STILL ELIGIBLE TO APPLY FOR THE GRANT EVEN IF YOUR STATE, TERRITORY, COMMONWEALTH, ETC DOES NOT HAVE A “STATE SINGLE POINT OF CONTACT.” STATES WITHOUT “STATE SINGLE POINTS OF CONTACT” INCLUDE: Alabama, Alaska; American Samoa; Colorado; Connecticut; Hawaii; Idaho; Kansas; Louisiana; Massachusetts, Minnesota; Montana; Nebraska; New Jersey; New York; Ohio; Oklahoma; Oregon; Palau; Pennsylvania; South Dakota; Tennessee; Vermont, Virginia; and Washington. This list is based on the most current information provided by the States. Information on any changes or apparent errors should be provided to the Office of Management and Budget and the State in question. Changes to the list will only be made upon formal notification by the State. Also, this listing is published biannually in the Catalogue of Federal Domestic Assistance.

[FR Doc. 02-1236 Filed 1-17-02; 8:45 am]

BILLING CODE 4184-01-P